ENVIRONMENTAL PROTECTION AGENCY

40 CFR Part 52

[EPA-R10-OAR-2024-0480; FRL-12783-01-R10]

Air Plan Approval; OR; Update to Materials Incorporated by Reference

AGENCY: Environmental Protection Agency (EPA).

ACTION: Final rule; administrative change.

SUMMARY: The Environmental Protection Agency (EPA) is updating the materials that are incorporated by reference (IBR) into the Oregon State Implementation Plan (SIP). The regulations affected by this update have been previously submitted by Oregon and approved by the EPA. In this final rule, the EPA is also notifying the public of corrections and clarifying changes in the Code of Federal Regulations (CFR) tables that identify the materials incorporated by reference into the Oregon SIP. This update affects the materials that are available for public inspection at the National Archives and Records Administration (NARA) and the EPA Regional Office.

DATES: This action is effective August 7, 2025.

ADDRESSES: The SIP materials for which incorporation by reference into 40 CFR part 52 is finalized through this action are available for inspection at the following locations: Environmental Protection Agency, Region 10, 1200 Sixth Avenue, Suite 155, Seattle, WA 98101; and www.regulations.gov. To view the materials at the Region 10 Office, the EPA requests that you email the contact listed in the FOR FURTHER INFORMATION CONTACT section to schedule your inspection. The Regional Office's official hours of business are Monday through Friday 8:30 a.m. to 4:30 p.m., excluding Federal holidays.

FOR FURTHER INFORMATION CONTACT: Claudia Vaupel, EPA Region 10, 1200 Sixth Avenue—Suite 155, Seattle, WA 98101, at 206-553-6121, or vaupel.claudia@epa.gov.

SUPPLEMENTARY INFORMATION:

I. Background

Each State has a SIP containing the control measures and strategies used to attain and maintain the national ambient air quality standards (NAAQS). The SIP is extensive, containing such elements as air pollution regulations, emissions inventories, monitoring networks, attainment demonstrations, and enforcement mechanisms, among other elements. In developing the SIP, the State formally adopts the control measures and strategies used to attain and maintain the NAAQS and submits them to the EPA for review and approval.¹ The EPA approves the State's submitted regulatory provisions and codifies them in part 52, “Approval and Promulgation of Implementation Plans,” of Title 40 of the Code of Federal Regulations (40 CFR part 52). In codifying the State regulatory provisions, the full text is not reproduced in its entirety in 40 CFR part 52 but is “incorporated by reference” as of a specific effective date. The public is referred to the location of the full text version for the specifics of each State regulatory provision incorporated by reference into the SIP. The information provided allows the EPA and the public to monitor the extent to which a State implements and enforces the SIP.

¹ See Clean Air Act section 110(a)(1) and (2).

The SIP is a living document that is revised by the State as necessary to address the unique air pollution problems in the State. A SIP revision may include changes to one or more regulations in their entirety, or portions of regulations. The State indicates the changes in the submitted SIP revision (such as by using redline/strikethrough text) and the EPA takes action on the requested changes. The EPA establishes a docket for each action using a unique Docket Identification Number, listed in each Federal Register document. The docket and complete submission are available for viewing on www.regulations.gov.

On May 22, 1997 (62 FR 27968), the EPA began implementing revised procedures for incorporating regulatory provisions by reference into the Code of Federal Regulations for each SIP. The revised procedures updated the format for the identification of each SIP in 40 CFR part 52, streamlined the mechanism for announcing EPA approval of SIP revisions, and streamlined the mechanism for updating the “IBR material” (the full text of the regulatory provisions and source-specific permits, etc.) incorporated by reference into each SIP in 40 CFR part 52. The revised procedures also called for the EPA to maintain a “SIP Compilation” of the IBR material for each State.

The EPA must update each SIP Compilation and periodically publish an informational document in the rules section of the Federal Register notifying the public that updates have been made to a SIP Compilation for a particular State. The EPA began applying the 1997 revised procedures to the Oregon SIP on December 10, 2013 (78 FR 74012). The EPA subsequently published updates to the Oregon SIP IBR materials on April 10, 2019 (84 FR 14272) and December 20, 2022 (87 FR 77720).

A. Approved and Incorporated by Reference Regulatory Materials

Since the last published update to the Oregon SIP IBR materials, the EPA took two actions, on July 23, 2024 (89 FR 59610) and October 8, 2024 (89 FR 81361), to approve and incorporated by reference a number of regulatory provisions into the Oregon SIP at 40 CFR 52.1970(c) and (d). The approval actions and associated regulatory provisions are described in the following paragraphs of this preamble.

1. Paragraph (c) EPA Approved Regulations and Statutes

a. Action on July 23, 2024 (89 FR 59610):

• OAR 340-200-0020 General Air Quality Definitions (defining terms used in the Oregon air quality regulations), State effective March 1, 2023;

• OAR 340-200-0025 Abbreviations and Acronyms (defining abbreviations and acronyms used in the Oregon air quality regulations), State effective March 1, 2023;

• OAR 340-200-0035 Reference Materials (specifying the title and version of each reference material used in the Oregon air quality regulations), State effective March 1, 2023;

• OAR 340-204-0300 Designation of Sustainment Areas (identifying the areas in Oregon designated as sustaining the relevant air quality standard), State effective March 1, 2023;

• OAR 340-204-0310 Designation of Reattainment Areas (identifying the areas in Oregon designated as reattaining the relevant air quality standard), State effective March 1, 2023;

• OAR 340-206-0010 Introduction (establishing significant harm levels for pollutants in areas based on priority level), State effective March 1, 2023;

• OAR 340-208-0110 Visible Air Contaminant Limitations (establishing limits and test methods for visible emissions), State effective March 1, 2023;

• OAR 340-209-0080 Issuance or Denial of a Permit (specifying procedures for issuing and denying permits, including how to request a hearing to contest a permit decision), State effective March 1, 2023;

• OAR 340-210-0100 Registration in General (identifying categories of sources that are required to register with the Oregon DEQ), State effective March 1, 2023;

• OAR 340-210-0205 Notice of Construction and Approval of Plans: Applicability and Requirements, except paragraph (3) (listing source types and activities that require notice to the Oregon DEQ prior to construction), State effective March 1, 2023;

• OAR 340-210-0225 Notice of Construction and Approval of Plans: Types of Construction/Modification Changes (establishing the activities that qualify for each type of notice of construction), State effective March 1, 2023;

• OAR 340-210-0230 Notice of Construction and Approval of Plans: Notice to Construct Application (requiring the specific information to be submitted in an application), State effective March 1, 2023;

• OAR 340-210-0240 Notice of Construction and Approval of Plans: Construction Approval (specifying what level of approval from Oregon DEQ is needed before a source may begin construction), State effective March 1, 2023;

• OAR 340-210-0250 Notice of Construction and Approval of Plans: Approval to Operate (specifying what is required of a source to obtain approval to operate), State effective March 1, 2023;

• OAR 340-214-0110 Reporting: Request for Information (requiring sources to respond to Oregon DEQ requests for information), State effective March 1, 2023;

• OAR 340-214-0114, Reporting: Records; Maintaining and Reporting (detailing when and how to record and report data), State effective March 1, 2023;

• OAR 340-214-0130 Reporting: Information Exempt from Disclosure (establishing that trade secrets and other eligible data may be exempt from disclosure), State effective March 1, 2023;

• OAR 340-216-0020 Applicability and Jurisdiction (identifying source categories subject to Division 216 regarding air contaminant discharge permits), State effective March 1, 2023;

• OAR 340-216-0025 Types and Permits (identifying the types of air contaminant discharge permits), State effective March 1, 2023;

• OAR 340-216-0040 Application Requirements (spelling out the information required to be included in permit applications), State effective March 1, 2023;

• OAR 340-216-0054 Short Term Activity ACDPs (listing the pilot and other time-limited activities that may be eligible for a short term activity ACDP), State effective March 1, 2023;

• OAR 340-216-0056 Basic ACDPs (identifying the contents of a basic ACDP), State effective March 1, 2023;

• OAR 340-216-0060 General Air Contaminant Discharge Permits (identifying the contents of a general ACDP), State effective March 1, 2023;

• OAR 340-216-0064 Simple ACDPs (identifying the contents of a simple ACDP), State effective March 1, 2023;

• OAR 340-216-0066 Standard ACDPs (identifying the contents of a standard ACDP), State effective March 1, 2023;

• OAR 340-216-0068 Simple and Standard ACDP Attachments (allowing Oregon DEQ to add requirements to existing simple and standard ACDP permits), State effective March 1, 2023;

• OAR 340-216-0082 Expiration, Termination, Reinstatement or Revocation of an ACDP (regulating when and how ACDPs expire, are terminated, reinstated or revoked), State effective March 1, 2023;

• OAR 340-216-0084 Department Initiated Modification (establishing a means by which Oregon DEQ may modify an ACDP when needed), State effective March 1, 2023;

• OAR 340-216-8010 Table 1—Activities and Sources (listing which source categories and associated activities must obtain an ACDP), State effective March 1, 2023;

• OAR 340-216-8020 Table 2—Air Contaminant Discharge Permits, except paragraph (2) and Table 2 (requiring sources to pay ACDP fees to the Oregon DEQ), State effective March 1, 2023;

• OAR 340-222-0020 Applicability and Jurisdiction (requiring that plant site emission limits are included in most ACDPs and title V operating permits), State effective March 1, 2023;

• OAR 340-222-0035 General Requirements for Establishing All PSELs (describing how plant site emission limits are established and how they are revised), State effective March 1, 2023;

• OAR 340-222-0041 Annual PSELs (prescribing how annual plant site emission limits are established on a source-specific basis), State effective March 1, 2023;

• OAR 340-222-0042 Short Term PSEL (establishing short term limits for sources located in areas with an established short term significant emission rate), State effective March 1, 2023;

• OAR 340-222-0046 Netting Basis (establishing netting basis requirements), State effective March 1, 2023;

• OAR 340-224-0030 New Source Review Procedural Requirements (establishing application and processing procedures for new source review permits), State effective March 1, 2023;

• OAR 340-224-0520 Net Air Quality Benefit Emission Offsets: Requirements for Demonstrating Net Air Quality Benefit for Ozone Areas (requiring certain sources to offset emissions in areas with ozone problems), State effective March 1, 2023;

• OAR 340-224-0530 Net Air Quality Benefit Emission Offsets: Requirements for Demonstrating Net Air Quality Benefit for Non-Ozone Areas (requiring sources to offset emissions in areas with particulate matter problems), State effective March 1, 2023;

• OAR 340-225-0030 Procedural Requirements (prescribing the procedures for air quality analysis), State effective March 1, 2023;

• OAR 340-225-0050 Requirements for Analysis in PSD Class II and Class III Areas (establishing the modeling requirements for sources in PSD class II and III areas), State effective March 1, 2023;

• OAR 340-225-0070 Requirements for Demonstrating Compliance with Air Quality Related Values Protection (describing how to comply with limits established for national parks, wilderness, and other areas), State effective March 1, 2023;

• OAR 340-226-0100 Highest and Best Practicable Treatment and Control: Policy and Application (requiring appropriate conditions in permits to control and treat emissions to the highest extent), State effective March 1, 2023;

• OAR 340-226-0130 Highest and Best Practicable Treatment and Control: Typically Achievable Control Technology (TACT) (laying out when and how the Oregon DEQ will make typically achievable control technology determinations), State effective March 1, 2023;

• OAR 340-226-0140 Highest and Best Practicable Treatment and Control: Additional Control Requirements for Stationary Sources of Air Contaminants (providing that the Oregon DEQ will establish additional control requirements to protect the NAAQS, visibility, and other public health and environmental goals), State effective March 1, 2023;

• OAR 340-226-0210 Grain Loading Standards: Particulate Emission Limitations for Sources Other Than Fuel Burning Equipment, Refuse Burning Equipment and Fugitive Emissions (establishing particulate emission standards for non-fuel burning equipment), State effective March 1, 2023;

• OAR 340-228-0210 General Emission Standards for Fuel Burning Equipment: Grain Loading Standards (setting grain loading standards for fuel-burning equipment), State effective March 1, 2023;

• OAR 340-232-0030 Definitions (defining terms used in the rules establishing emission standards for VOC point sources), State effective March 1, 2023;

• OAR 340-232-0040 General Non-Categorical Requirements (spelling out general case-by-case RACT requirements for VOC point sources), State effective March 1, 2023;

• OAR 340-232-0090 Bulk Gasoline Terminals Including Truck and Trailer Loading (VOC emission limits for bulk gasoline terminals), State effective March 1, 2023;

• OAR 340-232-0160 Surface Coating in Manufacturing (VOC emission limits for surface coating operations), State effective March 1, 2023;

• OAR 340-232-0170 Aerospace Component Coating Operations (VOC emission limits for component coating in the aerospace industry), State effective March 1, 2023;

• OAR 340-234-0010 Definitions except (8) and (10) (defining terms used in the rules establishing emission standards for the wood products industry), State effective March 1, 2023;

• OAR 340-234-0210 Kraft Pulp Mills: Emission Limitations, except references to total reduced sulfur (setting emission limits for kraft pulp mills), State effective March 1, 2023; and

• OAR 340-236-8010 Hot Mix Asphalt Plants: Table—Process Weight Table (requiring hot mix asphalt plants to comply with specific process weight discharge rates), State effective March 1, 2023.

b. Action on October 8, 2024 (89 FR 81361):

• OAR 340-223-0010 Purpose (for maintaining reasonable progress and other requirements associated with Oregon's implementation of the Federal Regional Haze Rule), State effective July 26, 2021;

• OAR 340-223-0020 Definitions (updating this section to account for revised program requirements between the first regional haze implementation period and the second implementation period), State effective July 26, 2021;

• OAR 340-223-0100 Screening Methodology for Sources for Round II of Regional Haze (establishing the criteria for selecting sources for review under the regional haze program), State effective July 26, 2021;

• OAR 340-223-0110 Options for Compliance with Round II of Regional Haze (establishing requirements for sources and compliance options under the regional haze program), State effective July 26, 2021;

• OAR 340-223-0120 Four Factor Analysis (establishing the requirements for assessing potential controls for reasonable progress under the regional haze program), State effective July 26, 2021; and

• OAR 340-223-0130 Final Orders Ordering Compliance with Round II of Regional Haze (establishing unilateral order authority and procedures for contested case hearings under the regional haze program), State effective July 26, 2021.

2. Paragraph (d) EPA Approved State Source-Specific Requirements

a. Action on October 8, 2024 (89 FR 81361):

• Ash Grove Cement Company, Permit No. 01-0029-TV-01, permit conditions (3), (9) through (11), (14), (16) through (28), (42), (45) through (76), (84) through (97), (99), (100), and (102) only, State effective October 16, 2020;

• Biomass One, L.P., Order No. 15-0159, State effective August 9, 2021;

• Boise Cascade Wood Products, LLC—Elgin Complex, Order No. 31-0006, State effective August 12, 2021;

• Boise Cascade Wood Products, LLC—Elgin Complex, Permit No. 31-0006-TV-01, permit conditions (56), (59) through (75), (77), and (78) only, State effective December 5, 2016;

• Boise Cascade Wood Products, LLC—Medford, Order No. 15-0004, State effective August 9, 2021;

• Boise Cascade Wood Products, LLC—Medford, Permit No. 15-0004-TV-01, permit conditions (71), (72), and (74) through (88) only, State effective February 20, 2020;

• Cascade Pacific Pulp, LLC—Halsey Pulp Mill, Order No. 22-3501-A2, State effective August 25, 2023;

• Cascades Tissue Group: A Division of Cascades Holding US Inc., Order No. 05-1849, State effective August 18, 2021;

• Cascades Tissue Group: A Division of Cascades Holding US Inc., Permit No. 05-1849-TV-01, permit conditions (24), (25), (27), and (29) through (43) only, State effective April 6, 2018;

• Collins Products, L.L.C., Permit No. 18-0013-TV-01, permit conditions (3), (14) through (16), (19) through (24), (34 through (42), (63) through (75), and (77) only, State effective January 26, 2015;

• Columbia Forest Products, Inc., Permit No. 18-0014-TV-01, permit conditions (3), (8) through (20), (22), (23), (34) through (52), (58) through (66), (67—introductory paragraph), (67.a), (67.b.iii) through (67.b.v), and (68) through (70) only, State effective September 26, 2017;

• EVRAZ Inc, Order No. 26-1865, State effective August 9, 2021;

• Gas Transmission Northwest LLC—Compressor Station 12, Order No. 09-0084, State effective August 9, 2021;

• Gas Transmission Northwest LLC—Compressor Station 12, Permit No. 09-0084-TV-01, permit conditions (32) through (34) and (37) through (50) only, State effective August 10, 2017;

• Gas Transmission Northwest LLC—Compressor Station 13, Order No. OAH CASE NO. 2021-ABC-04835/DEQ CASE NO. AQ/RH-HQ-2021-140, State effective June 1, 2022;

• Gas Transmission Northwest LLC—Compressor Station 13, Permit No. 18-0096-TV-01, permit conditions (24) through (26), (32) through (35), and (37) through (44) only, State effective July 11, 2018;

• Georgia-Pacific—Toledo LLC, Order No. 21-0005, Amendment No. 21-005-A1, State effective December 5, 2022;

• Georgia Pacific—Wauna Mill, Order No. 04-0004, Amendment No. 04-004-A1, State effective December 5, 2022;

• Gilchrist Forest Products, Permit No. 18-0005-TV-01, permit conditions (4), (5), (9), (10), (12) though (19), (41) through (43), (45) through (59), and (61) only, State effective July 25, 2023;

• International Paper—Springfield, Order No. 208850, State August 9, 2021;

• International Paper—Springfield, Permit No. 208850, permit conditions (186) through (189), (192), and (198) only, State effective October 4, 2016;

• JELD-WEN, Permit No. 18-0006-TV-01, permit conditions (55) through (77) and (80) through (87) only, State effective December 01, 2021;

• JELD-WEN, Permit No. 18-0006-TV-01, Addendum No, 1, permit conditions 53 and 53b only, State effective August 11, 2022;

• Kingsford Manufacturing Company, Permit No. 204402, addendum No. 2, permit conditions (71) through (73) and (75) through (91) only, State effective November 15, 2021;

• Klamath Energy LLC—Klamath Cogeneration, Permit No. 18-0003-TV-01, permit conditions (10) through (16), (18), (24) through (28), (32) through (37), (39) through (49), (51), (52), and (54), and (56) only, State effective June 12, 2017;

• Klamath Energy LLC—Klamath Cogeneration, Permit No. 18-0003-TV-01, Addendum No. 1, permit conditions (3.a), (3.b), (61.l), and (66.b.xii), State effective December 8, 2020;

• Northwest Pipeline LLC—Baker Compressor Station, Order No. 01-0038, amendment 01-0038-A1, State effective February 1, 2022;

• Northwest Pipeline LLC—Baker Compressor Station, Permit No. 01-0038-TV-01, permit conditions (27) through (30) and (32) through (43) only, State effective January 12, 2017;

• Northwest Pipeline LLC—Oregon City Compressor Station, Order No. 03-2729, amendment 03-2729-A1, State effective February 1, 2022;

• Northwest Pipeline LLC—Oregon City Compressor Station, Permit No. 03-2729-TV-01, permit conditions (7), (19), (25) through (27), (38), (41), (45), and (50) through (65) only, State effective February 19, 2013;

• Ochoco Lumber Company, Permit No. 12-0032-ST-01, permit conditions (1.1) through (1.3), (1.6), (2.1) through (2.5), (4.1) though (4.4), and (5.1) through (6.2) only, State effective June 25, 2019;

• Owens-Brockway Glass Container Inc., Order No. 26-1876, State effective August 9, 2021;

• Owens-Brockway Glass Container Inc., Permit No. 26-1876-TV-01, permit conditions (33) through (48) only, State effective December 10, 2019,

• Pacific Wood Laminates, Inc., Permit No. 08-0003-TV-01, permit conditions (3), (9), (10), (12) through (19), (26) through (41), (56) through (71), and (73) only, State effective December 30, 2019;

• PGE Beaver Plant/Port Westward I Plant, Order No. 05-2606, State effective August 10, 2021;

• PGE Beaver Plant/Port Westward I Plant, Permit No. 05-2520, permit conditions (62) through (66), (68) through (78), (79.a), (80) through (83), (85), (87), (88.a), (89.d), (89.f), and (89.i) only, State effective January 21, 2009;

• Roseburg Forest Products—Dillard, Order No. 10-0025, State effective August 9, 2021;

• Roseburg Forest Products—Medford MDF, Permit No. 15-0073-TV-01, permit conditions (44) through (46), (48) through (61), (63), and (64) only, State effective August 18, 2022;

• Roseburg Forest Products—Riddle Plywood, Permit No. 10-0078-TV-01, permit conditions (65), (66), (68) through (81) only, State effective July 31, 2019;

• Swanson Group Mfg. LLC, Permit No. 10-0045-TV-01, permit conditions (4), (10) through (24), (25—introductory paragraph), (25.a) through (25.c), (27) through (40), (50) through (64), and (66) only, State effective June 12, 2017;

• Timber Products Co. Limited Partnership, Permit No. 15-0025-TV-01, permit conditions (70) through (72) and (74) through (90) only, State effective June 23, 2022;

• Willamette Falls Paper Company, Order No. 03-2145, State effective August 9, 2021;

• Willamette Falls Paper Company, Permit No. 03-2145-TV-01, permit conditions (40) through (55) only, State effective February 24, 2016; and

• Woodgrain Millwork LLC—Particleboard, Permit No. 31-0002-TV-01, permit conditions (3), (12) through (21), (22—introductory paragraph), (22.a), (22.e), (22.f), (23), (25) though (28), (30) through (35), (37), (39) through (41), (43), (44), (46), (48), (49), (51) through (72), (80) through (94), and (96) only, State effective May 24, 2021.

B. Regulatory Materials Removed From Incorporation by Reference

Since the last published update to the Oregon SIP IBR materials, the EPA also removed regulatory materials from the Oregon SIP at 40 CFR 52.1970(c). The actions and associated regulatory provisions removed from incorporation by reference are described in the following paragraphs of this preamble. No IBR material was removed from paragraph (d).

1. Paragraph (c) EPA Approved Regulations and Statutes

a. Action on July 23, 2024 (89 FR 59610):

• OAR 340-210-0215, Notice of Construction and Approval of Plans: Requirement (requirements to notify the Oregon DEQ prior to constructing or modifying a subject source), State effective April 16, 2015;

• OAR 340-222-0040, Generic Annual PSEL (establishing generic plant site emission limits for subject sources that emit less than the significant emission rate), State effective April 16, 2015;

• OAR 340-021-200 Purpose (describing the purpose of contingency control requirements for existing industrial sources in coarse particulate matter nonattainment areas), State effective May 1, 1995;

• OAR 340-021-205 Relation to Other Rules (describing the relation of contingency control requirements to other regulations), State effective March 10, 1993;

• OAR 340-021-210 Applicability (stating that contingency control requirements shall apply if the EPA determines an area has failed to attain the PM10 standard by the applicable attainment date), State effective March 10, 1993;

• OAR 340-021-215 Definitions (establishing definitions used in the contingency control requirements), State effective March 10, 1993;

• OAR 340-021-220 Compliance Schedule for Existing Sources (setting the compliance schedule for sources to install emissions control systems as a contingency control requirement), State effective March 10, 1993;

• OAR 340-021-225 Wood-Waste Boilers (limiting emissions from wood-waste boilers to a specific rate as a contingency control requirement), State effective March 10, 1993;

• OAR 340-021-230 Wood Particle Dryers at Particleboard Plants (limiting emissions from wood particle dryers to a specific rate as a contingency control requirement), State effective March 10, 1993;

• OAR 340-021-235 Hardboard Manufacturing Plants (limiting emissions from hardboard manufacturing plants to a specific rate as a contingency control requirement), State effective March 10, 1993;

• OAR 340-021-240, Air Conveying Systems (limiting emissions from air conveying systems to a specific rate as a contingency control requirement), State effective March 10, 1993; and

• OAR 340-021-245, Fugitive Emissions (requiring wood products manufacturing plants to limit fugitive emissions as a contingency control requirement), State effective March 10, 1993.

2. Action on October 8, 2024 (89 FR 81361):

• OAR 340-223-0030 BART and Additional Regional Haze Requirements for the Foster-Wheeler Boiler at the Boardman Coal-Fired Power Plant (Federal Acid Rain Program Facility ORISPL Code 6106 (establishing nitrogen oxide and sulfur dioxide emission limits, retrofit control technology and fuel requirements for the Foster-Wheeler Boiler), State effective December 10, 2010;

• OAR 340-223-0040 Federally Enforceable Permit Limits (requirements for sources that accept a federally enforceable limit to avoid specific best available retrofit technology requirements), State effective December 10, 2010;

• OAR 340-223-0050 Alternative Regional Haze Requirements for the Foster-Wheeler Boiler at the Boardman Coal-Fired Power Plant (Federal Acid Rain Program Facility ORISPL Code 6106 (regional haze compliance options and dates for the Foster-Wheeler Boiler), State effective December 10, 2010; and

• OAR 340-223-0080 Alternative Requirements for the Foster-Wheeler Boiler at the Boardman Coal-Fired Power Plant (Federal Acid Rain Program Facility ORISPL Code 6106) Based Upon Permanently Ceasing the Burning of Coal Within Five Years of EPA Approval of the Revision to the Oregon Clean Air Act State Implementation Plan Incorporating OAR Chapter 340, Division 223 (regional haze compliance options and dates for the Foster-Wheeler Boiler if it ceases to burn coal), State effective December 10, 2010.

II. EPA Action

In this action, the EPA is providing notification of an update to the materials incorporated by reference into the Oregon SIP as of June 1, 2025, and identified in 40 CFR 52.1970(c) and (d). This update includes SIP materials submitted by Oregon and approved by the EPA since the last IBR update. See 87 FR 77720 (December 20, 2022).

In addition, the EPA is providing notification of the following corrections:

40 CFR 52.1970(c): correcting entry “629-048-0110” to reflect that a revision to this regulation was approved in the EPA action on May 25, 2021 (86 FR 27976); and

40 CFR 52.1970(e): correcting the entry for “ODEQ Continuous Emissions Monitoring Manual” in Table 5 to include the statewide applicable geographic area, which was inadvertently left blank in the action on October 11, 2017 (82 FR 47122).

III. Good Cause Exemption

The EPA has determined that this action falls under the “good cause” exemption in section 553(b)(3)(B) of the Administrative Procedure Act (APA) which, upon finding “good cause,” authorizes agencies to dispense with public participation and section 553(d)(3) which allows an agency to make an action effective immediately (thereby avoiding the 30-day delayed effective date otherwise provided for in the APA). This administrative action simply codifies provisions which are already in effect as a matter of law in Federal and approved State programs, makes corrections and clarifying changes to the tables in the CFR, and makes ministerial changes to the prefatory heading to the tables in the CFR. Under section 553 of the APA, an agency may find good cause where procedures are “impracticable, unnecessary, or contrary to the public interest.” Public comment for this administrative action is “unnecessary” and “contrary to the public interest” since the codification (and corrections) only reflect existing law. Immediate notice of this action in the Federal Register benefits the public by providing the public notification of the updated Oregon SIP Compilation and notification of corrections to the Oregon “Identification of Plan” portion of the CFR. Further, pursuant to section 553(d)(3), making this action immediately effective benefits the public by immediately updating both the SIP Compilation and the CFR “Identification of plan” section (which includes table entry corrections).

IV. Incorporation by Reference

In this document, The EPA is finalizing regulatory text that includes incorporation by reference. In accordance with requirements of 1 CFR 51.5, The EPA is finalizing the incorporation by reference of regulations promulgated by Oregon, previously approved by the EPA and federally effective before June 1, 2025, contained in Volume I, 40 CFR 52.1970(c), EPA approved regulations and statutes, and Volume II, 40 CFR 52.1970(d) EPA approved state source-specific requirements, described in section II. of this preamble. The EPA has made, and will continue to make, these materials generally available through www.regulations.gov and at the EPA Region 10 Office (please contact the person identified in the FOR FURTHER INFORMATION CONTACT section of this preamble for more information).

V. Statutory and Executive Order Reviews

Under the Clean Air Act, the Administrator is required to approve a SIP submission that complies with the provisions of the Clean Air Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866:

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

This action is subject to the Congressional Review Act, and EPA will submit a rule report to each House of the Congress and to the Comptroller General of the United States. This action is not a “major rule” as defined by 5 U.S.C. 804(2).

Under section 307(b)(1) of the Clean Air Act, petitions for judicial review of this action must be filed in the United States Court of Appeals for the appropriate circuit by October 6, 2025. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: July 18, 2025.
Emma Pokon,
Regional Administrator, Region 10.

For the reasons set forth in the preamble, EPA is amending 40 CFR part 52 as follows:

PART 52—APPROVAL AND PROMULGATION OF IMPLEMENTATION PLANS

1. The authority citation for part 52 continues to read as follows:

Authority: 42 U.S.C. 7401 et seq.

Subpart MM—Oregon

2. In § 52.1970, paragraphs (b), (c), (d) and (e) are revised to read as follows:

§ 52.1970 Identification of plan.

* * * * *

(b) Incorporation by reference.

(1) Material listed in paragraphs (c) and (d) of this section with an EPA approval date prior to June 1, 2025, was approved for incorporation by reference by the Director of the Federal Register in accordance with 5 U.S.C. 552(a) and 1 CFR part 51. Material is incorporated as it exists on the date of the approval and notification of any change in the material will be published in the Federal Register. Entries in paragraphs (c) and (d) of this section with EPA approval dates after June 1, 2025, will be incorporated by reference in the next update to the SIP compilation.

(2) EPA Region 10 certifies that the rules/regulations provided by the EPA in the SIP compilation at the addresses in paragraph (b)(3) of this section are an exact duplicate of the officially promulgated State rules/regulations which have been approved as part of the State Implementation Plan as of the dates referenced in paragraph (b)(1) of this section.

(3) Copies of the materials incorporated by reference may be inspected at the Region 10 EPA Office at 1200 Sixth Avenue, Suite 155, Seattle, WA 98101. To obtain the material, please call (206) 553-6357. You may inspect the material with an EPA approval date prior to June 1, 2025, for Oregon at the National Archives and Records Administration (NARA). For information on the availability of this material at NARA email fedreg.legal@nara.gov or go to www.archives.gov/federal-register/cfr/ibr-locations.

(c) EPA approved regulations and statutes.

Table 1—EPA Approved Oregon State Statutes
State citation | Title/subject | State effective date | EPA approval date | Explanations
ORS 477.515 | Permits | 1971 | 11/1/2001, 66 FR 55105 | Permits required for fires on forestlands; waiver, permit conditions, smoke management plan; restricted areas, rules and excepted areas.

Table 2—EPA Approved Oregon Administrative Rules (OAR) ¹
State citation | Title/subject | State effective date | EPA approval date | Explanations
Chapter 340—Department of Environmental Quality
Division 200—General Air Pollution Procedures and Definitions
200-0010 | Purpose and Application | 4/16/2015 | 10/11/2017, 82 FR 47122
200-0020 | General Air Quality Definitions | 3/1/2023 | 7/23/2024, 89 FR 59610
200-0025 | Abbreviations and Acronyms | 3/1/2023 | 7/23/2024, 89 FR 59610
200-0030 | Exceptions | 4/16/2015 | 10/11/2017, 82 FR 47122
200-0035 | Reference Materials | 3/1/2023 | 7/23/2024, 89 FR 59610
Division 202—Ambient Air Quality Standards and PSD Increments
202-0010 | Definitions | 4/16/2015 | 10/11/2017, 82 FR 47122
202-0020 | Applicability and Jurisdiction | 4/16/2015 | 10/11/2017, 82 FR 47122
Ambient Air Quality Standards
202-0050 | Purpose and Scope of Ambient Air Quality Standards | 4/16/2015 | 10/11/2017, 82 FR 47122
202-0060 | Suspended Particulate Matter | 10/16/2015 | 5/24/2018, 83 FR 24034
202-0070 | Sulfur Dioxide | 4/16/2015 | 10/11/2017, 82 FR 47122
202-0080 | Carbon Monoxide | 7/1/2011 | 1/22/2003, 68 FR 2891
202-0090 | Ozone | 7/13/2017 | 5/24/2018, 83 FR 24034
202-0100 | Nitrogen Dioxide | 4/16/2015 | 10/11/2017, 82 FR 47122
202-0130 | Lead | 4/16/2015 | 10/11/2017, 82 FR 47122
Prevention of Significant Deterioration Increments
202-0200 | General | 4/16/2015 | 10/11/2017, 82 FR 47122
202-0210 | Ambient Air PSD Increments | 4/16/2015 | 10/11/2017, 82 FR 47122
202-0220 | Ambient Air Ceilings | 4/16/2015 | 10/11/2017, 82 FR 47122
202-0225 | Ambient Air Quality Impact Levels for Maintenance Areas | 4/16/2015 | 10/11/2017, 82 FR 47122
Division 204—Designation of Air Quality Areas
204-0010 | Definitions | 4/16/2015 | 10/11/2017, 82 FR 47122
204-0020 | Designation of Air Quality Control Regions | 4/16/2015 | 10/11/2017, 82 FR 47122
204-0030 | Designation of Nonattainment Areas | 4/16/2015 | 10/11/2017, 82 FR 47122
204-0040 | Designation of Maintenance Areas | 4/16/2015 | 10/11/2017, 82 FR 47122
204-0050 | Designation of Prevention of Significant Deterioration Areas | 4/16/2015 | 10/11/2017, 82 FR 47122
204-0060 | Redesignation of Prevention of Significant Deterioration Areas | 4/16/2015 | 10/11/2017, 82 FR 47122
204-0070 | Special Control Areas | 4/16/2015 | 10/11/2017, 82 FR 47122
204-0080 | Motor Vehicle Inspection Boundary Designations | 4/16/2015 | 10/11/2017, 82 FR 47122
204-0090 | Oxygenated Gasoline Control Areas | 4/16/2015 | 10/11/2017, 82 FR 47122
Designation of Areas
204-0300 | Designation of Sustainment Areas | 3/1/2023 | 7/23/2024, 89 FR 59610
204-0310 | Designation of Reattainment Areas | 3/1/2023 | 7/23/2024, 89 FR 59610
204-0320 | Priority Sources | 4/16/2015 | 10/11/2017, 82 FR 47122
Division 206—Air Pollution Emergencies
206-0010 | Introduction | 3/1/2023 | 7/23/2024, 89 FR 59610
206-0020 | Definitions | 4/16/2015 | 10/11/2017, 82 FR 47122
206-0030 | Episode State Criteria for Air Pollution Emergencies | 4/16/2015 | 10/11/2017, 82 FR 47122
206-0040 | Special Conditions | 4/16/2015 | 10/11/2017, 82 FR 47122
206-0050 | Source Emission Reduction Plans | 4/16/2015 | 10/11/2017, 82 FR 47122
206-0060 | Regional Air Pollution Authorities | 4/16/2015 | 10/11/2017, 82 FR 47122
206-0070 | Operations Manual | 4/16/2015 | 10/11/2017, 82 FR 47122
206-8010 | Air Pollution Episode ALERT Conditions Source Emission Reduction Plan Emissions Control Actions to be Taken as Appropriate in Alert Episode Area | 4/16/2015 | 10/11/2017, 82 FR 47122
206-8020 | Air Pollution Episode WARNING Conditions Emission Reduction Plan | 4/16/2015 | 10/11/2017, 82 FR 47122
206-8030 | Air Pollution Episode EMERGENCY Conditions Emission Reduction Plan | 4/16/2015 | 10/11/2017, 82 FR 47122
206-8040 | Air Pollution Episode Conditions Due to Particulate Which is Primarily Fallout from Volcanic Activity or Windblown Dust | 4/16/2015 | 10/11/2017, 82 FR 47122
Division 208—Visible Emissions and Nuisance Requirements
208-0005 | Applicability and Jurisdiction | 4/16/2015 | 10/11/2017, 82 FR 47122
208-0010 | Definitions | 4/16/2015 | 10/11/2017, 82 FR 47122
Visible Emissions
208-0110 | Visible Air Contaminant Limitations | 3/1/2023 | 7/23/2024, 89 FR 59610
Fugitive Emission Requirements
208-0210 | Requirements for Fugitive Emissions | 4/16/2015 | 10/11/2017, 82 FR 47122
Division 209—Public Participation
209-0010 | Purpose | 4/16/2015 | 10/11/2017, 82 FR 47122
209-0020 | Applicability | 11/16/2018 | 10/31/2019, 84 FR 58324
209-0030 | Public Notice Categories and Timing | 11/16/2018 | 10/31/2019, 84 FR 58324
209-0040 | Public Notice Information | 11/16/2018 | 10/31/2019, 84 FR 58324
209-0050 | Public Notice Procedures | 11/16/2018 | 10/31/2019, 84 FR 58324
209-0060 | Persons Required to be Notified | 4/16/2018 | 10/11/2017, 82 FR 47122
209-0080 | Issuance or Denial of a Permit | 3/1/2023 | 7/23/2024, 89 FR 59610
Division 210—Stationary Source Notification Requirements
210-0010 | Applicability and Jurisdiction | 4/16/2015 | 10/11/2017, 82 FR 47122
210-0020 | Definitions | 4/16/2015 | 10/11/2017, 82 FR 47122
Registration
210-0100 | Registration in General | 3/1/2023 | 7/23/2024, 89 FR 59610
210-0110 | Registration Requirements | 4/16/2015 | 10/11/2017, 82 FR 47122
210-0120 | Re-Registration and Maintaining Registration | 4/16/2015 | 10/11/2017, 82 FR 47122
Notice of Construction and Approval of Plans
210-0205 | Applicability | 3/1/2023 | 7/23/2024, 89 FR 59610 | Except paragraph (3).
210-0225 | Types of Construction/Modification Changes | 3/1/2023 | 7/23/2024, 89 FR 59610
210-0230 | Notice to Construct | 3/1/2023 | 7/23/2024, 89 FR 59610
210-0240 | Construction Approval | 3/1/2023 | 7/23/2024, 89 FR 59610
210-0250 | Approval to Operate | 3/1/2023 | 7/23/2024, 89 FR 59610
Division 212—Stationary Source Testing and Monitoring
212-0005 | Applicability and Jurisdiction | 4/16/2015 | 10/11/2017, 82 FR 47122
212-0010 | Definitions | 4/16/2015 | 10/11/2017, 82 FR 47122
Sampling, Testing and Measurement
212-0110 | Applicability | 4/16/2015 | 10/11/2017, 82 FR 47122
212-0120 | Program | 4/16/2015 | 10/11/2017, 82 FR 47122
212-0130 | Stack Heights and Dispersion Techniques | 4/16/2015 | 10/11/2017, 82 FR 47122
212-0140 | Methods | 4/16/2015 | 10/11/2017, 82 FR 47122
212-0150 | Department Testing | 4/16/2015 | 10/11/2017, 82 FR 47122
Division 214—Stationary Source Reporting Requirements
214-0005 | Applicability and Jurisdiction | 4/16/2015 | 10/11/2017, 82 FR 47122
214-0010 | Definitions | 4/16/2015 | 10/11/2017, 82 FR 47122
Reporting
214-0100 | Applicability | 4/16/2015 | 10/11/2017, 82 FR 47122
214-0110 | Request for Information | 3/1/2023 | 7/23/2024, 89 FR 59610
214-0114 | Records; Maintaining and Reporting | 3/1/2023 | 7/23/2024, 89 FR 59610
214-0120 | Enforcement | 10/14/1999 | 1/22/2003, 68 FR 2891
214-0130 | Reporting: Information Exempt from Disclosure | 3/1/2023 | 7/23/2024, 89 FR 59610
Emissions Statements for VOC and NOX Sources
214-0200 | Purpose and Applicability | 4/16/2015 | 10/11/2017, 82 FR 47122
214-0210 | Requirements | 4/16/2015 | 10/11/2017, 82 FR 47122
214-0220 | Submission of Emission Statement | 4/16/2015 | 10/11/2017, 82 FR 47122
Excess Emissions and Emergency Provision
214-0300 | Purpose and Applicability | 11/8/2007 | 12/27/2011, 76 FR 80747
214-0310 | Planned Startup and Shutdown | 11/8/2007 | 12/27/2011, 76 FR 80747
214-0320 | Scheduled Maintenance | 11/8/2007 | 12/27/2011, 76 FR 80747
214-0330 | All Other Excess Emissions | 11/8/2007 | 12/27/2011, 76 FR 80747
214-0340 | Reporting Requirements | 11/8/2007 | 12/27/2011, 76 FR 80747
214-0350 | Enforcement Action Criteria | 11/8/2007 | 12/27/2011, 76 FR 80747
214-0360 | Emergency as an Affirmative Defense | 11/8/2007 | 12/27/2011, 76 FR 80747
Division 216—Air Contaminant Discharge Permits
216-0010 | Purpose | 4/16/2015 | 10/11/2017, 82 FR 47122
216-0020 | Applicability and Jurisdiction | 3/1/2023 | 7/23/2024, 89 FR 59610
216-0025 | Types of Permits | 3/1/2023 | 7/23/2024, 89 FR 59610
216-0030 | Definitions | 11/16/2018 | 10/31/2019, 84 FR 58324
216-0040 | Application Requirements | 3/1/2023 | 7/23/2024, 89 FR 59610
216-0052 | Construction ACDPs | 4/16/2015 | 10/11/2017, 82 FR 47122
216-0054 | Short-Term Activity ACDPs | 3/1/2023 | 7/23/2024, 89 FR 59610
216-0056 | Basic ACDPs | 3/1/2023 | 7/23/2024, 89 FR 59610
216-0060 | General Air Contaminant Discharge Permits | 3/1/2023 | 7/23/2024, 89 FR 59610
216-0062 | General ACDP Attachments | 4/16/2015 | 10/11/2017, 82 FR 47122
216-0064 | Simple ACDPs | 3/1/2023 | 7/23/2024, 89 FR 59610
216-0066 | Standard ACDPs | 3/1/2023 | 7/23/2024, 89 FR 59610
216-0068 | Simple and Standard ACDP Attachments | 3/1/2023 | 7/23/2024, 89 FR 59610
216-0070 | Permitting a Source with Multiple Activities or Processes at a Single Adjacent or Contiguous Site | 4/16/2015 | 10/11/2017, 82 FR 47122
216-0082 | Expiration, Termination, Reinstatement or Revocation of an ACDP | 3/1/2023 | 7/23/2024, 89 FR 59610
216-0084 | Department-Initiated Modification | 3/1/2023 | 7/23/2024, 89 FR 59610
216-0090 | Sources Subject to ACDPs and Fees | 11/16/2018 | 10/31/2019, 84 FR 58324
216-0094 | Temporary Closure | 4/16/2015 | 10/11/2017, 82 FR 47122
216-8010 | Table 1—Activities and Sources | 3/1/2023 | 7/23/2024, 89 FR 59610
216-8020 | Table 2—Air Contaminant Discharge Permits | 3/1/2023 | 7/23/2024, 89 FR 59610 | Except paragraph (2) and Table 2.
Division 222—Stationary Source Plant Site Emission Limits
222-0010 | Policy | 4/16/2015 | 10/11/2017, 82 FR 47122
222-0020 | Applicability and Jurisdiction | 3/1/2023 | 7/23/2024, 89 FR 59610
222-0030 | Definitions | 4/16/2015 | 10/11/2017, 82 FR 47122
Criteria for Establishing Plant Site Emission Limits
222-0035 | General Requirements for Establishing All PSELs | 3/1/2023 | 7/23/2024, 89 FR 59610
222-0041 | Source Specific Annual PSEL | 3/1/2023 | 7/23/2024, 89 FR 59610
222-0042 | Short Term PSEL | 3/1/2023 | 7/23/2024, 89 FR 59610
222-0046 | Netting Basis | 3/1/2023 | 7/23/2024, 89 FR 59610
222-0048 | Baseline Period and Baseline Emission Rate | 4/16/2015 | 10/11/2017, 82 FR 47122
222-0051 | Actual Emissions | 4/16/2015 | 10/11/2017, 82 FR 47122
222-0055 | Unassigned Emissions | 4/16/2015 | 10/11/2017, 82 FR 47122
222-0080 | Plant Site Emission Limit Compliance | 4/16/2015 | 10/11/2017, 82 FR 47122
222-0090 | Combining and Splitting Sources and Changing Primary SIC Code | 4/16/2015 | 10/11/2017, 82 FR 47122
Division 223—Regional Haze Rules
223-0010 | Purpose | 7/26/2021 | 10/8/2024, 89 FR 81361
223-0020 | Definitions | 7/26/2021 | 10/8/2024, 89 FR 81361
223-0100 | Screening Methodology for Sources for Round II of Regional Haze | 7/26/2021 | 10/8/2024, 89 FR 81361
223-0110 | Options for Compliance with Round II of Regional Haze | 7/26/2021 | 10/8/2024, 89 FR 81361
223-0120 | Four Factor Analysis | 7/26/2021 | 10/8/2024, 89 FR 81361
223-0130 | Final Orders Ordering Compliance with Round II of Regional Haze | 7/26/2021 | 10/8/2024, 89 FR 81361
Division 224—New Source Review
224-0010 | Applicability, General Prohibitions, General Requirements and Jurisdiction | 4/16/2015 | 10/11/2017, 82 FR 47122
224-0020 | Definitions | 4/16/2015 | 10/11/2017, 82 FR 47122
224-0025 | Major Modification | 4/16/2015 | 10/11/2017, 82 FR 47122
224-0030 | New Source Review Procedural Requirements | 3/1/2023 | 7/23/2024, 89 FR 59610
224-0034 | Exemptions | 4/16/2015 | 10/11/2017, 82 FR 47122
224-0038 | Fugitive and Secondary Emissions | 4/16/2015 | 10/11/2017, 82 FR 47122
224-0040 | Review of Sources Subject to Major NSR or Type A State NSR for Compliance with Regulations | 4/16/2015 | 10/11/2017, 82 FR 47122
Major New Source Review
224-0045 | Requirements for Sources in Sustainment Areas | 4/16/2015 | 10/11/2017, 82 FR 47122
224-0050 | Requirements for Sources in Nonattainment Areas | 4/16/2015 | 10/11/2017, 82 FR 47122
224-0055 | Requirements for Sources in Reattainment Areas | 4/16/2015 | 10/11/2017, 82 FR 47122
224-0060 | Requirements for Sources in Maintenance Areas | 4/16/2015 | 10/11/2017, 82 FR 47122
224-0070 | Prevention of Significant Deterioration Requirements for Sources in Attainment or Unclassified Areas | 4/16/2015 | 10/11/2017, 82 FR 47122
State New Source Review
224-0245 | Requirements for Sources in Sustainment Areas | 4/16/2015 | 10/11/2017, 82 FR 47122
224-0250 | Requirements for Sources in Nonattainment Areas | 4/16/2015 | 10/11/2017, 82 FR 47122
224-0255 | Requirements for Sources in Reattainment Areas | 4/16/2015 | 10/11/2017, 82 FR 47122
224-0260 | Requirements for Sources in Maintenance Areas | 4/16/2015 | 10/11/2017, 82 FR 47122
224-0270 | Requirements for Sources in Attainment and Unclassified Areas | 4/16/2015 | 10/11/2017, 82 FR 47122
Net Air Quality Benefit Emission Offsets
224-0500 | Net Air Quality Benefit for Sources Locating within or Impacting Designated Area | 4/16/2015 | 10/11/2017, 82 FR 47122
224-0510 | Common Offset Requirements | 4/16/2015 | 10/11/2017, 82 FR 47122 | Except paragraph (3).
224-0520 | Requirements for Demonstrating Net Air Quality Benefit for Ozone Areas | 3/1/2023 | 7/23/2024, 89 FR 59610
224-0530 | Requirements for Demonstrating Net Air Quality Benefit for Non-Ozone Areas | 3/1/2023 | 7/23/2024, 89 FR 59610
224-0540 | Sources in a Designated Area Impacting Other Designated Areas | 4/16/2015 | 10/11/2017, 82 FR 47122
Division 225—Air Quality Analysis
225-0010 | Purpose and Jurisdiction | 4/16/2015 | 10/11/2017, 82 FR 47122
225-0020 | Definitions | 4/16/2015 | 10/11/2017, 82 FR 47122
225-0030 | Procedural Requirements | 3/1/2023 | 7/23/2024, 89 FR 59610
225-0040 | Air Quality Models | 4/16/2015 | 10/11/2017, 82 FR 47122
225-0045 | Requirements for Analysis in Maintenance Areas | 4/16/2015 | 10/11/2017, 82 FR 47122
225-0050 | Requirements for Analysis in PSD Class I and Class III Areas | 3/1/2023 | 7/23/2024, 89 FR 59610
225-0060 | Requirements for Demonstrating Compliance with Standards and Increments in PSD Class I Areas | 4/16/2015 | 10/11/2017, 82 FR 47122
225-0070 | Requirements for Demonstrating Compliance with Air Quality Related Values Protection | 3/1/2023 | 7/23/2024, 89 FR 59610
Division 226—General Emission Standards
226-0005 | Applicability and Jurisdiction | 4/16/2015 | 10/11/2017, 82 FR 47122
226-0010 | Definitions | 4/16/2015 | 10/11/2017, 82 FR 47122
Highest and Best Practicable Treatment and Control
226-0100 | Policy and Application | 3/1/2023 | 7/23/2024, 89 FR 59610
226-0110 | Pollution Prevention | 4/16/2015 | 10/11/2017, 82 FR 47122
226-0120 | Operating and Maintenance Requirements | 4/16/2015 | 10/11/2017, 82 FR 47122
226-0130 | Typically Achievable Control Technology (TACT) | 3/1/2023 | 7/23/2024, 89 FR 59610
226-0140 | Additional Control Requirements for Stationary Sources of Air Contaminants | 3/1/2023 | 7/23/2024, 89 FR 59610
Grain Loading Standards
226-0210 | Particulate Emission Limitations for Sources Other Than Fuel Burning Equipment, Refuse Burning Equipment and Fugitive Emissions | 3/1/2023 | 7/23/2024, 89 FR 59610
Particulate Emissions from Process Equipment
226-0310 | Emission Standard | 4/16/2015 | 10/11/2017, 82 FR 47122
226-0320 | Determination of Process Weight | 4/16/2015 | 10/11/2017, 82 FR 47122
Alternative Emission Controls
226-0400 | Alternative Emission Controls (Bubble) | 4/16/2015 | 10/11/2017, 82 FR 47122
226-0810 | Particulate Matter Emissions Standards for Process Equipment | 4/16/2015 | 10/11/2017, 82 FR 47122
Division 228—Requirements for Fuel Burning Equipment and Fuel Sulfur Content
228-0010 | Applicability and Jurisdiction | 4/16/2015 | 10/11/2017, 82 FR 47122
228-0020 | Definitions | 4/16/2015 | 10/11/2017, 82 FR 47122
Sulfur Content of Fuels
228-0100 | Residual Fuel Oils | 4/16/2015 | 10/11/2017, 82 FR 47122
228-0110 | Distillate Fuel Oils | 4/16/2015 | 10/11/2017, 82 FR 47122
228-0120 | Coal | 4/16/2015 | 10/11/2017, 82 FR 47122
228-0130 | Exemptions | 4/16/2015 | 10/11/2017, 82 FR 47122
General Emission Standards for Fuel Burning Equipment
228-0200 | Sulfur Dioxide Standards | 4/16/2015 | 10/11/2017, 82 FR 47122
228-0210 | General Emission Standards for Fuel Burning Equipment: Grain Loading Standards | 3/1/2023 | 7/23/2024, 89 FR 59610
Division 232—Emission Standards for VOC Point Sources
232-0010 | Introduction | 4/16/2015 | 10/11/2017, 82 FR 47122
232-0020 | Applicability | 4/16/2015 | 10/11/2017, 82 FR 47122
232-0030 | Definitions | 3/1/2023 | 7/23/2024, 89 FR 59610
232-0040 | General Non-Categorical Requirements | 3/1/2023 | 7/23/2024, 89 FR 59610
232-0050 | Exemptions | 4/16/2015 | 10/11/2017, 82 FR 47122
232-0060 | Compliance Determination | 4/16/2015 | 10/11/2017, 82 FR 47122
232-0080 | Bulk Gasoline Plants Including Transfer of Gasoline | 4/16/2015 | 10/11/2017, 82 FR 47122
232-0085 | Gasoline Delivery Vessel(s) | 4/16/2015 | 10/11/2017, 82 FR 47122
232-0090 | Bulk Gasoline Terminals Including Truck and Trailer Loading | 3/1/2023 | 7/23/2024, 89 FR 59610
232-0100 | Testing Vapor Transfer and Collection Systems | 4/16/2015 | 10/11/2017, 82 FR 47122
232-0110 | Loading Gasoline and Volatile Organic Liquids Onto Marine Tank Vessels | 4/16/2015 | 10/11/2017, 82 FR 47122
232-0120 | Cutback and Emulsified Asphalt | 4/16/2015 | 10/11/2017, 82 FR 47122
232-0130 | Petroleum Refineries | 4/16/2015 | 10/11/2017, 82 FR 47122
232-0140 | Petroleum Refinery Leaks | 4/16/2015 | 10/11/2017, 82 FR 47122
232-0150 | VOC Liquid Storage | 4/16/2015 | 10/11/2017, 82 FR 47122
232-0160 | Surface Coating in Manufacturing | 3/1/2023 | 7/23/2024, 89 FR 59610
232-0170 | Aerospace Component Coating Operations | 3/1/2023 | 7/23/2024, 89 FR 59610
232-0180 | Degreasers | 4/16/2015 | 10/11/2017, 82 FR 47122
232-0190 | Open Top Vapor Degreasers | 4/16/2015 | 10/11/2017, 82 FR 47122
232-0200 | Conveyorized Degreasers | 4/16/2015 | 10/11/2017, 82 FR 47122
232-0210 | Asphaltic and Coal Tar Pitch Used for Roofing Coating | 4/16/2015 | 10/11/2017, 82 FR 47122
232-0220 | Flat Wood Coating | 4/16/2015 | 10/11/2017, 82 FR 47122
232-0230 | Rotogravure and Flexographic Printing | 4/16/2015 | 10/11/2017, 82 FR 47122
Division 234—Emission Standards for Wood Product Industries
234-0005 | Applicability and Jurisdiction | 4/16/2015 | 10/11/2017, 82 FR 47122
234-0010 | Definitions | 3/1/2023 | 7/23/2024, 89 FR 59610 | Except (8) and (10).
Wigwam Waste Burners
234-0100 | Wigwam Waste Burners | 4/16/2015 | 10/11/2017, 82 FR 47122
234-0140 | Existing Administrative Agency Orders | 4/16/2015 | 10/11/2017, 82 FR 47122
Kraft Pulp Mills
234-0200 | Statement of Policy and Applicability | 4/16/2015 | 10/11/2017, 82 FR 47122
234-0210 | Emission Limitations | 3/1/2023 | 7/23/2024, 89 FR 59610 | Except references to total reduced sulfur.
234-0220 | More Restrictive Emission Limits | 4/16/2015 | 10/11/2017, 82 FR 47122 | Except (2).
234-0240 | Monitoring | 4/16/2015 | 10/11/2017, 82 FR 47122 | Except (1).
234-0250 | Reporting | 4/16/2015 | 10/11/2017, 82 FR 47122 | Except (1) and (2).
234-0270 | Chronic Upset Conditions | 4/16/2015 | 10/11/2017, 82 FR 47122
Board Products Industries (Veneer, Plywood, Particleboard, Hardboard)
234-0500 | Applicability and General Provisions | 4/16/2015 | 10/11/2017, 82 FR 47122
234-0510 | Veneer and Plywood Manufacturing Operations | 4/16/2015 | 10/11/2017, 82 FR 47122
234-0520 | Particleboard Manufacturing Operations | 4/16/2015 | 10/11/2017, 82 FR 47122
234-0530 | Hardboard Manufacturing Operations | 4/16/2015 | 10/11/2017, 82 FR 47122
234-0540 | Testing and Monitoring | 4/16/2015 | 10/11/2017, 82 FR 47122
Division 236—Emission Standards for Specific Industries
236-0005 | Applicability and Jurisdiction | 4/16/2015 | 10/11/2017, 82 FR 47122
236-0010 | Definitions | 7/19/2019 | 6/9/2020, 85 FR 35198
Hot Mix Asphalt Plants
236-0400 | Applicability | 4/16/2015 | 10/11/2017, 82 FR 47122
236-0410 | Control Facilities Required | 4/16/2015 | 10/11/2017, 82 FR 47122
236-0420 | Other Established Air Quality Limitations | 4/16/2015 | 10/11/2017, 82 FR 47122
236-0440 | Ancillary Sources of Emission—Housekeeping of Plant Facilities | 4/16/2015 | 10/11/2017, 82 FR 47122
236-8010 | Process Weight Table | 3/1/2023 | 7/23/2024, 89 FR 59610
Division 240—Rules for Areas with Unique Air Quality Needs
240-0010 | Purpose | 4/16/2015 | 10/11/2017, 82 FR 47122
240-0020 | Emission Limitations | 4/16/2015 | 10/11/2017, 82 FR 47122
240-0030 | Definitions | 4/16/2015 | 10/11/2017, 82 FR 47122
240-0050 | Compliance Testing Requirements | 4/16/2015 | 10/11/2017, 82 FR 47122
The Medford-Ashland Air Quality Maintenance Area and the Grants Pass Urban Growth Area
240-0100 | Applicability | 4/16/2015 | 10/11/2017, 82 FR 47122
240-0110 | Wood Waste Boilers | 4/16/2015 | 10/11/2017, 82 FR 47122
240-0120 | Veneer Dryer Emission Limitations | 4/16/2015 | 10/11/2017, 82 FR 47122
240-0130 | Air Conveying Systems (Medford-Ashland AQMA Only) | 4/16/2015 | 10/11/2017, 82 FR 47122
240-0140 | Wood Particle Dryers at Particleboard Plants | 4/16/2015 | 10/11/2017, 82 FR 47122
240-0150 | Hardboard Manufacturing Plants | 4/16/2015 | 10/11/2017, 82 FR 47122
240-0160 | Wigwam Waste Burners | 4/16/2015 | 10/11/2017, 82 FR 47122
240-0180 | Control of Fugitive Emissions (Medford-Ashland AQMA Only) | 4/16/2015 | 10/11/2017, 82 FR 47122
240-0190 | Requirement for Operation and Maintenance Plans (Medford-Ashland AQMA Only) | 4/16/2015 | 10/11/2017, 82 FR 47122
240-0210 | Continuous Monitoring | 4/16/2015 | 10/11/2017, 82 FR 47122
240-0220 | Source Testing | 4/16/2015 | 10/11/2017, 82 FR 47122
240-0250 | Open Burning | 4/16/2015 | 10/11/2017, 82 FR 47122
La Grande Urban Growth Area
240-0300 | Applicability | 4/16/2015 | 10/11/2017, 82 FR 47122
240-0320 | Wood-Waste Boilers | 4/16/2015 | 10/11/2017, 82 FR 47122
240-0330 | Wood Particle Dryers at Particleboard Plants | 4/16/2015 | 10/11/2017, 82 FR 47122
240-0340 | Hardboard Manufacturing Plants | 4/16/2015 | 10/11/2017, 82 FR 47122
240-0350 | Air Conveying Systems | 4/16/2015 | 10/11/2017, 82 FR 47122
240-0360 | Fugitive Emissions | 4/16/2015 | 10/11/2017, 82 FR 47122
The Lakeview Urban Growth Area
240-0400 | Applicability | 4/16/2015 | 10/11/2017, 82 FR 47122
240-0410 | Control of Fugitive Emissions | 4/16/2015 | 10/11/2017, 82 FR 47122
240-0420 | Requirement for Operation and Maintenance Plans | 4/16/2015 | 10/11/2017, 82 FR 47122
240-0430 | Source Testing | 4/16/2015 | 10/11/2017, 82 FR 47122
240-0440 | Open Burning | 4/16/2015 | 10/11/2017, 82 FR 47122
Klamath Falls Nonattainment Area
240-0500 | Applicability | 12/11/2012 | 8/25/2015, 80 FR 51470
240-0510 | Opacity Standard | 4/16/2015 | 10/11/2017, 82 FR 47122
240-0520 | Control of Fugitive Emissions | 12/11/2012 | 8/25/2015, 80 FR 51470
240-0530 | Requirement for Operation and Maintenance Plans | 12/11/2012 | 8/25/2015, 80 FR 51470
240-0540 | Compliance Schedule for Existing Industrial Sources | 12/11/2012 | 8/25/2015, 80 FR 51470
240-0550 | Requirements for New Sources When Using Residential Wood Fuel-Fired Device Offsets | 4/16/2015 | 10/11/2017, 82 FR 47122
Real and Permanent PM2.5 and PM10 Offsets
240-0560 | Real and Permanent PM2.5 and PM10 Offsets | 4/16/2015 | 10/11/2017, 82 FR 47122
Klamath Falls Nonattainment Area Contingency Measures
240-0570 | Applicability | 12/11/2012 | 6/6/2016, 81 FR 36176
240-0580 | Existing Industrial Sources Control Efficiency | 12/11/2012 | 6/6/2016, 81 FR 36176
240-0610 | Continuous Monitoring for Industrial Sources | 4/16/2015 | 10/11/2017, 82 FR 47122
240-0620 | Contingency Measures: New Industrial Sources | 12/11/2012 | 6/6/2016, 81 FR 36176
240-0630 | Contingency Enhanced Curtailment of Use of Solid Fuel Burning Devices and Fireplaces | 12/11/2012 | 6/6/2016, 81 FR 36176
Division 242—Rules Applicable to the Portland Area
242-0010 | What is the Employee Commute Options Program? | 4/12/2007 | 12/19/2011, 76 FR 78571
242-0020 | Who is Subject to ECO? | 4/12/2007 | 12/19/2011, 76 FR 78571
242-0030 | What Does ECO Require? | 4/12/2007 | 12/19/2011, 76 FR 78571
242-0040 | How Does the Department Enforce ECO? | 4/12/2007 | 12/19/2011, 76 FR 78571
242-0050 | Definitions of Terms Used in These Rules | 4/12/2007 | 12/19/2011, 76 FR 78571
242-0060 | Should All Employees at a Work Site be Counted? | 10/14/1999 | 1/22/2003, 68 FR 2891
242-0070 | What are the Major Requirements of ECO? | 4/12/2007 | 12/19/2011, 76 FR 78571
242-0080 | What are the Registration Requirements? | 4/12/2007 | 12/19/2011, 76 FR 78571
242-0090 | What are the Requirements for an Employee Survey? | 4/12/2007 | 12/19/2011, 76 FR 78571
242-0100 | Special Requirements for Employers Intending to Comply Without an Approved Plan | 10/14/1999 | 1/22/2003, 68 FR 2891
242-0110 | What if an Employer Does Not Meet the Target Auto Trip Rate? | 4/12/2007 | 12/19/2011, 76 FR 78571
242-0120 | How Will Employers Demonstrate Progress Toward the Target Auto Trip Rate? | 4/12/2007 | 12/19/2011, 76 FR 78571
242-0130 | What is the Schedule Employers Must Follow to Implement ECO? | 10/14/1999 | 1/22/2003, 68 FR 2891
242-0140 | How Should Employers Account for Changes in Work Force Size? | 10/14/1999 | 1/22/2003, 68 FR 2891
242-0150 | How Can an Employer Reduce Auto Commute Trips to a Work Site? | 10/14/1999 | 1/22/2003, 68 FR 2891
242-0160 | What Should be Included in an Auto Trip Reduction Plan? | 4/12/2007 | 12/19/2011, 76 FR 78571
242-0170 | When Will the Department Act on a Submitted Auto Trip Reduction Plan? | 10/14/1999 | 1/22/2003, 68 FR 2891
242-0180 | What is a Good Faith Effort? | 4/12/2007 | 12/19/2011, 76 FR 78571
242-0190 | How Does the ECO Program Affect New Employers, Expanding Employers and Employers Relocating Within the Portland AQMA? | 4/12/2007 | 12/19/2011, 76 FR 78571
242-0200 | Can a New or Relocating Employer Comply with ECO Through Restricted Parking Ratios? | 4/12/2007 | 12/19/2011, 76 FR 78571
242-0210 | Can an Existing Employer Comply with ECO Through Restricted Parking Ratios? | 4/12/2007 | 12/19/2011, 76 FR 78571
242-0220 | What if an Employer Has More Than One Work Site Within the Portland AQMA? | 4/12/2007 | 12/19/2011, 76 FR 78571
242-0230 | Can Employers Submit a Joint Plan? | 10/14/1999 | 1/22/2003, 68 FR 2891
242-0240 | Are There Alternatives to Trip Reduction? | 4/12/2007 | 12/19/2011, 76 FR 78571
242-0250 | What Alternatives Qualify as Equivalent Emission Reductions? | 10/14/1999 | 1/22/2003, 68 FR 2891
242-0260 | Can Employers Get Credit for Existing Trip Reduction Programs? | 4/12/2007 | 12/19/2011, 76 FR 78571
242-0270 | Are Exemptions Allowed if an Employer is Unable to Reduce Trips or Take Advantage of Alternate Compliance Options? | 4/12/2007 | 12/19/2011, 76 FR 78571
242-0280 | Participation in the Industrial Emission Management Program | 4/12/2007 | 12/19/2011, 76 FR 78571
242-0290 | What Kind of Records Must be Kept and for How Long? | 4/12/2007 | 12/19/2011, 76 FR 78571
Voluntary Maximum Parking Ratio Program
242-0300 | What is the Voluntary Parking Ratio Program? | 10/14/1999 | 1/22/2003, 68 FR 2891
242-0310 | Who can Participate in the Voluntary Parking Ratio Program? | 10/14/1999 | 1/22/2003, 68 FR 2891
242-0320 | Definitions of Terms and Land Uses | 10/14/1999 | 1/22/2003, 68 FR 2891
242-0330 | How Does a Property Owner Comply with the Voluntary Parking Ratio Program? | 10/14/1999 | 1/22/2003, 68 FR 2891
242-0340 | What are the Incentives for Complying with the Voluntary Parking Ratio Program? | 10/14/1999 | 1/22/2003, 68 FR 2891
242-0350 | Why Do I Need a Parking Ratio Permit? | 10/14/1999 | 1/22/2003, 68 FR 2891
242-0360 | What is Required to Obtain a Parking Ratio Permit? | 10/14/1999 | 1/22/2003, 68 FR 2891
242-0370 | How is the Parking Ratio Program Enforced? | 10/14/1999 | 1/22/2003, 68 FR 2891
242-0380 | When Will the Department Act on a Submitted Permit Application? | 10/14/1999 | 1/22/2003, 68 FR 2891
242-0390 | What are the Applicable Parking Ratios? | 10/14/1999 | 1/22/2003, 68 FR 2891
Industrial Emission Management Program
242-0400 | Applicability | 4/16/2015 | 10/11/2017, 82 FR 47122
242-0410 | Definition of Terms | 4/16/2015 | 10/11/2017, 82 FR 47122
242-0420 | Unused PSEL Donation Program | 4/16/2015 | 10/11/2017, 82 FR 47122
242-0430 | Industrial Growth Allowances | 4/16/2015 | 10/11/2017, 82 FR 47122
242-0440 | Industrial Growth Allowance Allocation | 4/16/2015 | 10/11/2017, 82 FR 47122
Gasoline Vapors from Gasoline Transfer and Dispensing Operations
242-0500 | Purpose and Applicability | 4/16/2015 | 10/27/2015, 80 FR 65655
242-0510 | Definitions | 4/16/2015 | 10/27/2015, 80 FR 65655
242-0520 | General Provisions | 4/16/2015 | 10/27/2015, 80 FR 65655
Motor Vehicle Refinishing
242-0600 | Applicability | 4/16/2015 | 10/11/2017, 82 FR 47122
242-0610 | Definitions | 4/16/2015 | 10/11/2017, 82 FR 47122
242-0620 | Requirements for Motor Vehicle Refinishing in Portland AQMA | 4/16/2015 | 10/11/2017, 82 FR 47122
242-0630 | Inspecting and Testing Requirements | 4/16/2015 | 10/11/2017, 82 FR 47122
Division 244—Oregon Federal Hazardous Air Pollutant Program ² ³
General Provisions for Stationary Sources
244-0030 | Definitions | 1/21/2021 | 8/11/2021, 86 FR 43954
Emission Standards for Gasoline Dispensing Facilities
244-0232 | Purpose | 4/16/2015 | 10/27/2015, 80 FR 65655
244-0234 | Affected Sources | 4/16/2015 | 10/27/2015, 80 FR 65655
244-0236 | Affected Equipment or Processes | 4/16/2015 | 10/27/2015, 80 FR 65655
244-0238 | Compliance Dates | 4/16/2015 | 10/27/2015, 80 FR 65655 | Except (1)(a) and (2)(c).
Emission Limitations and Management Practices
244-0239 | General Duties to Minimize Emissions | 4/16/2015 | 10/27/2015, 80 FR 65655
244-0240 | Work Practice and Submerged Fill Requirements | 4/16/2015 | 10/27/2015, 80 FR 65655 | Except (1)(b) and (c).
244-0242 | Vapor Balance Requirements | 4/16/2015 | 10/27/2015, 80 FR 65655 | Including tables 2 and 3. Except (4)(c) and (d).
Testing and Monitoring Requirements
244-0244 | Testing and Monitoring Requirements | 4/16/2015 | 10/27/2015, 80 FR 65655
Notifications, Records, and Reports
244-0246 | Notifications | 4/16/2015 | 10/27/2015, 80 FR 65655
244-0248 | Recordkeeping Requirements | 4/16/2015 | 10/27/2015, 80 FR 65655
244-0250 | Reporting Requirements | 4/16/2015 | 10/27/2015, 80 FR 65655
244-0252 | General Provision Applicability | 12/31/2008 | 10/27/2015, 80 FR 65655
Division 250—General Conformity
250-0010 | Purpose | 10/14/1999 | 1/22/2003, 68 FR 2891
250-0020 | Applicability | 10/14/1999 | 1/22/2003, 68 FR 2891
250-0030 | Definitions | 10/16/2015 | 5/24/2018, 83 FR 24034
250-0040 | Conformity Analysis | 10/14/1999 | 1/22/2003, 68 FR 2891
250-0050 | Reporting Requirements | 10/14/1999 | 1/22/2003, 68 FR 2891
250-0060 | Public Participation | 10/14/1999 | 1/22/2003, 68 FR 2891
250-0070 | Frequency of Conformity Determinations | 10/14/1999 | 1/22/2003, 68 FR 2891
250-0080 | Criteria for Determining Conformity of General Federal Actions | 10/14/1999 | 1/22/2003, 68 FR 2891
250-0090 | Procedures for Conformity Determinations of General Federal Actions | 10/14/1999 | 1/22/2003, 68 FR 2891
250-0100 | Mitigation of Air Quality Impacts | 10/14/1999 | 1/22/2003, 68 FR 2891
Division 252—Transportation Conformity
252-0010 | Propose | 10/14/1999 | 1/22/2003, 68 FR 2891
252-0030 | Definitions | 3/5/2010 | 10/4/2012, 77 FR 60627
252-0060 | Consultation | 3/5/2010 | 10/4/2012, 77 FR 60627
252-0070 | Timeframe of Conformity Determinations | 3/5/2010 | 10/4/2012, 77 FR 60627 | Except last two sentences.
252-0230 | Written Comments | 3/5/2010 | 10/4/2012, 77 FR 60627
Division 256—Motor Vehicles
256-0010 | Definitions | 11/19/2020 | 7/12/2022, 87 FR 41256
Visible Emissions
256-0100 | Visible Emissions—General Requirements, Exclusions | 7/12/2005 | 12/19/2011, 76 FR 78571
256-0130 | Motor Vehicle Fleet Operation | 11/19/2020 | 7/12/2022, 87 FR 41256
Certification of Pollution Control Systems
256-0200 | County Designations | 11/19/2020 | 7/12/2022, 87 FR 41256
Emission Control System Inspection
256-0300 | Scope | 11/19/2020 | 7/12/2022, 87 FR 41256
256-0310 | Government-Owned Vehicle, Permanent Fleet Vehicle and United States Government Vehicle Testing | 11/19/2020 | 7/12/2022, 87 FR 41256
256-0330 | Department of Defense Personnel Participating in the Privately Owned Vehicle Import Control Program | 10/14/1999 | 11/24/2004, 69 FR 67819
256-0340 | Light Duty Motor Vehicle Emission Control Test Method for Enhanced Program | 11/19/2020 | 7/12/2022, 87 FR 41256
256-0355 | Emissions Control Test Method for OBD Test Program | 11/19/2020 | 7/12/2022, 87 FR 41256
256-0356 | Emissions Control Test Method for On-Site Vehicle Testing for Automobile Dealerships | 11/19/2020 | 7/12/2022, 87 FR 41256
256-0370 | Renewal of Registration for Light Duty Motor Vehicles and Heavy Duty Gasoline Motor Vehicles Temporarily Operating Outside of Oregon | 11/19/2020 | 7/12/2022, 87 FR 41256
256-0380 | Light Duty Motor Vehicle Emission Control Test Criteria for Basic Program | 11/19/2020 | 7/12/2022, 87 FR 41256
256-0390 | Heavy Duty Gasoline Motor Vehicle Emission Control Test Criteria | 11/19/2020 | 7/12/2022, 87 FR 41256
256-0400 | Light Duty Motor Vehicle Emission Control Standards for Basic Program | 11/19/2020 | 7/12/2022, 87 FR 41256
256-0420 | Heavy-Duty Gasoline Motor Vehicle Emission Control Standards | 11/19/2020 | 7/12/2022, 87 FR 41256
256-0440 | Criteria for Qualifications of Persons Eligible to Inspect Motor Vehicles and Motor Vehicle Pollution Control Systems and Execute Certificates | 11/19/2020 | 7/12/2022, 87 FR 41256
256-0450 | Gas Analytical System Licensing Criteria for Basic Program | 11/19/2020 | 7/12/2022, 87 FR 41256
256-0465 | Test Equipment Licensing Criteria for OBD Test Program | 11/19/2020 | 7/12/2022, 87 FR 41256
256-0470 | Agreement with Independent Contractor; Qualifications of Contractor; Agreement Provisions | 11/19/2020 | 7/12/2022, 87 FR 41256
Division 258—Motor Vehicle Fuel Specifications
258-0010 | Definitions | 10/14/1999 | 1/22/2003, 68 FR 2891
Oxygenated Gasoline
258-0100 | Policy | 10/14/1999 | 1/22/2003, 68 FR 2891
258-0110 | Purpose and General Requirements | 10/14/1999 | 1/22/2003, 68 FR 2891
258-0120 | Sampling and Testing for Oxygen Content | 10/14/1999 | 1/22/2003, 68 FR 2891
258-0130 | Compliance Options | 10/14/1999 | 1/22/2003, 68 FR 2891
258-0140 | Per Gallon Oxygen Content Standard | 10/14/1999 | 1/22/2003, 69 FR 2891
258-0150 | Average Oxygen Content Standard | 10/14/1999 | 1/22/2003, 68 FR 2891
258-0160 | Minimum Oxygen Content | 10/14/1999 | 1/22/2003, 68 FR 2891
258-0170 | Oxygenated Gasoline Blending | 10/14/1999 | 1/22/2003, 68 FR 2891
258-0180 | Registration | 10/14/1999 | 1/22/2003, 68 FR 2891
258-0190 | CAR, Distributor and Retail Outlet Operating Permits | 10/14/1999 | 1/22/2003, 68 FR 2891
258-0200 | Owners of Gasoline and Terminals, Distributors and Retail Outlets Required to Have Indirect Source Operating Permits | 10/14/1999 | 1/22/2003, 68 FR 2891
258-0210 | Recordkeeping | 10/14/1999 | 1/22/2003, 68 FR 2891
258-0220 | Reporting | 10/14/1999 | 1/22/2003, 68 FR 2891
258-0230 | Prohibited Activities | 10/14/1999 | 1/22/2003, 68 FR 2891
258-0240 | Inspection and Sampling | 10/14/1999 | 1/22/2003, 68 FR 2891
258-0250 | Liability for Violation of a Prohibited Activity | 10/14/1999 | 1/22/2003, 68 FR 2891
258-0260 | Defenses for Prohibited Activities | 10/14/1999 | 1/22/2003, 68 FR 2891
258-0270 | Inability to Produce Conforming Gasoline Due to Extraordinary Circumstances | 10/14/1999 | 1/22/2003, 68 FR 2891
258-0280 | Quality Assurance Program | 10/14/1999 | 1/22/2003, 68 FR 2891
258-0290 | Attest Engagements Guidelines When Prohibited Activities Alleged | 10/14/1999 | 1/22/2003, 68 FR 2891
258-0300 | Dispenser Labeling | 10/14/1999 | 1/22/2003, 68 FR 2891
258-0310 | Contingency Provision for Carbon Monoxide Nonattainment Areas | 10/14/1999 | 1/22/2003, 68 FR 2891
Standard for Automotive Gasoline
258-0400 | Reid Vapor Pressure for Gasoline | 10/14/1999 | 1/22/2003, 68 FR 2891
Division 262—Heat Smart Program for Residential Woodstoves and Other Solid Fuel Heating Devices
262-0400 | Purpose and Applicability of Rules | 3/15/2011 | 6/20/2013, 78 FR 37124
262-0450 | Definitions | 4/16/2015 | 10/11/2017, 82 FR 47122
262-0500 | Certification of Solid Fuel Burning Devices for Sale and New | 3/15/2011 | 6/20/2013, 78 FR 37124
262-0600 | New and Used Solid Fuel Burning Devices | 5/17/2012 | 6/20/2013, 78 FR 37124
262-0700 | Removal and Destruction of Used Solid Fuel Burning Devices | 3/15/2011 | 6/20/2013, 78 FR 37124
262-0800 | Wood Burning and Other Heating Devices Curtailment Program | 3/15/2011 | 6/20/2013, 78 FR 37124
262-0900 | Materials Prohibited from Burning | 3/15/2011 | 6/20/2013, 78 FR 37124
262-1000 | Wood Burning Contingency Measures for PM2.5 Nonattainment Areas | 12/11/2012 | 6/6/2016, 81 FR 36176
Division 264—Rules for Open Burning
264-0010 | How to Use These Open Burning Rules | 4/16/2015 | 10/11/2017, 82 FR 47122
264-0020 | Policy | 4/16/2015 | 10/11/2017, 82 FR 47122
264-0030 | Definitions | 4/16/2015 | 10/11/2017, 82 FR 47122
264-0040 | Exemptions, Statewide | 4/16/2015 | 10/11/2017, 82 FR 47122
264-0050 | General Requirements Statewide | 4/16/2015 | 10/11/2017, 82 FR 47122
264-0060 | General Prohibitions Statewide | 4/16/2015 | 10/11/2017, 82 FR 47122
264-0070 | Open Burning Conditions | 4/16/2015 | 10/11/2017, 82 FR 47122
264-0075 | Delegation of Authority | 4/16/2015 | 10/11/2017, 82 FR 47122
264-0078 | Open Burning Control Areas | 4/16/2015 | 10/11/2017, 82 FR 47122
264-0080 | County Listing of Specific Open Burning Rules | 4/16/2015 | 10/11/2017, 82 FR 47122
Open Burning Requirements
264-0100 | Baker, Clatsop, Crook, Curry, Deschutes, Gilliam, Grant, Harney, Hood River, Jefferson, Klamath, Lake, Lincoln, Malheur, Morrow, Sherman, Tillamook, Umatilla, Union, Wallowa, Wasco and Wheeler Counties | 4/16/2015 | 10/11/2017, 82 FR 47122
264-0110 | Benton, Linn, Marion, Polk, and Yamhill Counties | 4/16/2015 | 10/11/2017, 82 FR 47122
264-0120 | Clackamas County | 4/16/2015 | 10/11/2017, 82 FR 47122
264-0130 | Multnomah County | 4/16/2015 | 10/11/2017, 82 FR 47122
264-0140 | Washington County | 4/16/2015 | 10/11/2017, 82 FR 47122
264-0150 | Columbia County | 4/16/2015 | 10/11/2017, 82 FR 47122
264-0160 | Lane County | 4/16/2015 | 10/11/2017, 82 FR 47122
264-0170 | Coos, Douglas, Jackson and Josephine Counties | 4/16/2015 | 10/11/2017, 82 FR 47122
264-0175 | Klamath County | 4/16/2015 | 10/11/2017, 82 FR 47122
264-0180 | Letter Permits | 4/16/2015 | 10/11/2017, 82 FR 47122
Division 266—Field Burning Rules (Willamette Valley)
266-0010 | Introduction | 10/14/1999 | 1/22/2003, 68 FR 2891
266-0020 | Policy | 10/14/1999 | 1/22/2003, 68 FR 2891
266-0030 | Definitions | 10/14/1999 | 1/22/2003, 68 FR 2891
266-0040 | General Requirements | 10/14/1999 | 1/22/2003, 68 FR 2891
266-0050 | Registration, Permits, Fees, Records | 10/14/1999 | 1/22/2003, 68 FR 2891
266-0060 | Acreage Limitations, Allocations | 10/14/1999 | 1/22/2003, 68 FR 2891
266-0070 | Daily Burning Authorization Criteria | 10/14/1999 | 1/22/2003, 68 FR 2891
266-0080 | Burning by Public Agencies (Training Fires) | 10/14/1999 | 1/22/2003, 68 FR 2891
266-0090 | Preparatory Burning | 10/14/1999 | 1/22/2003, 68 FR 2891
266-0100 | Experimental Burning | 10/14/1999 | 1/22/2003, 68 FR 2891
266-0110 | Emergency Burning Cessation | 10/14/1999 | 1/22/2003, 68 FR 2891
266-0120 | Propane Flaming | 10/14/1999 | 1/22/2003, 68 FR 2891
266-0130 | Stack Burning | 10/14/1999 | 1/22/2003, 68 FR 2891
Division 268—Emission Reduction Credits
268-0010 | Applicability | 4/16/2015 | 10/11/2017, 82 FR 47122
268-0020 | Definitions | 4/16/2015 | 10/11/2017, 82 FR 47122
268-0030 | Emission Reduction Credits | 4/16/2015 | 10/11/2017, 82 FR 47122
Chapter 629-Oregon Department of Forestry
629-24-301 | Maintenance of Productivity and Related Values | 8/1/1987 | 11/1/2001, 66 FR 55105 | Statewide Visibility Plan.
629-048-0001 | Title, Scope and Effective Dates | 3/1/2019 | 5/25/2021, 86 FR 27976
629-048-0005 | Definitions | 3/1/2019 | 5/25/2021, 86 FR 27976
629-048-0010 | Purpose | 3/1/2019 | 5/25/2021, 86 FR 27976
629-048-0020 | Necessity of Prescribed Burning | 3/1/2019 | 5/25/2021, 86 FR 27976
629-048-0021 | Necessity of Safeguarding Public Health | 3/1/2019 | 5/25/2021, 86 FR 27976
629-048-0100 | Regulated Areas | 1/1/2008 | 8/22/2012, 77 FR 50611
629-048-0110 | Characterization and Response to Smoke Incidents, Smoke Intrusions, and National Ambient Air Quality Standards (NAAQS) Exceedances | 3/1/2019 | 5/25/2021, 86 FR 27976
629-048-0120 | Air Quality Maintenance Objectives | 3/1/2019 | 5/25/2021, 86 FR 27976
629-048-0130 | Visibility Objectives | 7/11/2014 | 5/25/2021, 86 FR 27976
629-048-0135 | Special Protection Zone Requirements | 3/1/2019 | 5/25/2021, 86 FR 27976
629-048-0137 | SPZ Contingency Plan Requirements | 3/1/2019 | 5/25/2021, 86 FR 27976
629-048-0140 | Smoke Sensitive Receptor Areas | 3/1/2019 | 5/25/2021, 86 FR 27976
629-048-0150 | Criteria for Future Listing of Smoke Sensitive Receptor Areas | 3/1/2019 | 5/25/2021, 86 FR 27976
629-048-0160 | Bear Creek/Rogue River Valley SSRA | 1/1/2008 | 8/22/2012, 77 FR 50611
629-048-0180 | Communication, Community Response Plans, and Exemption Requests | 3/1/2019 | 5/25/2021, 86 FR 27976
629-048-0200 | Regulated Areas | 3/1/2019 | 5/25/2021, 86 FR 27976
629-048-0210 | Best Burn Practices; Emission Reduction Techniques | 3/1/2019 | 5/25/2021, 86 FR 27976
629-048-0220 | Forecast Procedures | 3/1/2019 | 5/25/2021, 86 FR 27976
629-048-0230 | Burn Procedures | 3/1/2019 | 5/25/2021, 86 FR 27976
629-048-0300 | Registration of Intent to Burn | 1/1/2008 | 8/22/2012, 77 FR 50611
629-048-0310 | Fees for Prescribed Burning | 3/1/2019 | 5/25/2021, 86 FR 27976
629-048-0320 | Reporting of Accomplishments | 3/1/2019 | 5/25/2021, 86 FR 27976
629-048-0330 | Emission Inventories | 1/1/2008 | 8/22/2012, 77 FR 50611
629-048-0400 | Coordination with Other Regulating Jurisdictions and for Other Pollutants | 1/1/2008 | 8/22/2012, 77 FR 50611
629-048-0450 | Periodic Evaluation and Adaptive Management | 3/1/2019 | 5/25/2021, 86 FR 27976
629-048-0500 | Enforcement | 3/1/2019 | 5/25/2021, 86 FR 27976
Department of State Police
Chapter 837—Office of State Fire Marshall
Division 110—Field Burning and Propaning Rules
837-110-0010 | Field Preparation | 2/7/1994 | 11/1/2001, 66 FR 55105 | Statewide Visibility Plan.
837-110-0020 | Firefighting Water Supplies | 2/7/1994 | 11/1/2001, 66 FR 55105 | Statewide Visibility Plan.
837-110-0030 | Firefighting Equipment | 2/7/1994 | 11/1/2001, 66 FR 55105 | Statewide Visibility Plan.
837-110-0040 | Ignition Criteria | 2/7/1994 | 11/1/2001, 66 FR 55105 | Statewide Visibility Plan.
837-110-0050 | Prohibited Use | 2/7/1989 | 11/1/2001, 66 FR 55105 | Statewide Visibility Plan.
837-110-0060 | Communication | 2/7/1989 | 11/1/2001, 66 FR 55105 | Statewide Visibility Plan.
837-110-0070 | Fire Safety Watch | 2/7/1994 | 11/1/2001, 66 FR 55105 | Statewide Visibility Plan.
837-110-0080 | Fire Safety Buffer Zones | 2/7/1994 | 11/1/2001, 66 FR 55105 | Statewide Visibility Plan.
837-110-0090 | Ban on Burning | 2/7/1994 | 11/1/2001, 66 FR 55105 | Statewide Visibility Plan.
Propaning
837-110-0110 | Field Preparation | 2/7/1994 | 11/1/2001, 66 FR 55105 | Statewide Visibility Plan.
837-110-0120 | Firefighting Water Supplies | 2/7/1994 | 11/1/2001, 66 FR 55105 | Statewide Visibility Plan.
837-110-0130 | Firefighting Equipment | 2/7/1994 | 11/1/2001, 66 FR 55105 | Statewide Visibility Plan.
837-110-0140 | Communication | 2/7/1989 | 11/1/2001, 66 FR 55105 | Statewide Visibility Plan.
837-110-0150 | Fire Safety Watch | 2/7/1994 | 11/1/2001, 66 FR 55105 | Statewide Visibility Plan.
837-110-0160 | Ban on Burning | 8/11/1993 | 11/1/2001, 66 FR 55105 | Statewide Visibility Plan.
¹ The EPA approves the requirements in Table 2 of this paragraph (c) only to the extent they apply to (1) pollutants for which NAAQS have been established (criteria pollutants) and precursors to those criteria pollutants as determined by the EPA for the applicable geographic area; and (2) any additional pollutants that are required to be regulated under Part C of Title I of the CAA, but only for the purposes of meeting or avoiding the requirements of Part C of Title I of the CAA.
² Only for the Portland-Vancouver, Medford-Ashland, and Salem-Keizer Area Transportation Study air quality management areas, as well as all of Clackamas, Multnomah, and Washington counties.
³ The EPA approves Division 244 only to the extent needed to implement the requirements for gasoline dispensing facilities that are approved into the SIP for the purpose of regulating VOC emissions.

Table 3—EPA Approved City and County Ordinances
Agency and ordinance | Title or subject | Date | EPA approval date | Explanations
City of Grants Pass Ordinance No. 4671 | Bans Open Burning | 7/23/1990 (city approved) | 12/17/1993, 58 FR 65934 | Grants Pass PM-10 Attainment Plan.
City of Eugene Ordinance No. 19731 | An Ordinance Restricting the Use of Solid Fuel Space Heating Devices During Air Pollution Episodes | 11/5/1990 (city approved) | 8/24/1994, 59 FR 43483 | Eugene-Springfield PM-10 Attainment Plan.
Lane County Ordinance No. 9-90 (Alternative 2) | Restricts Use of Solid Fuel Space Heating Devices During Air Pollution Episodes | 12/19/1990 (county enacted) | 8/24/1994, 59 FR 43483 | Eugene-Springfield PM-10 Attainment Plan.
City of Springfield Ordinance No. 5546 | Restricts Use of Solid Fuel Space Heating Devices During Air Pollution Episodes | 12/17/1990 (city approved) | 8/24/1994, 59 FR 43483 | Eugene-Springfield PM-10 Attainment Plan.
Union County Ordinance 1991-6 | Field Burning Smoke Management Program | 6/5/1991 (county passed) | 2/15/1995, 60 FR 8563 | La Grande PM-10 Attainment Plan.
City of Klamath Falls Ordinance 6630 | An Ordinance Consenting to the Application of the Klamath County Air Quality Program Ordinance Within City Limits | 9/16/1991 (city approval) | 4/14/1997, 62 FR 18047 | Klamath Falls PM-10 Attainment Plan.
City of Oakridge Ordinance 815 | Restricts Use of Solid Fuel Space Heating Devices During Air Pollution Episodes | 8/15/1996 (city approved) | 3/15/1999, 64 FR 12751 | Oakridge PM-10 Attainment Plan.
Town of Lakeview Resolution No. 402 | Establishes a Lakeview Air Quality Improvement Program | 2/28/1994 (town passed) | 9/21/1999, 64 FR 51051 | Lakeview PM-10 Attainment Plan.
Lake County Commissioners Resolution | Establishment of a Lakeview Urban Growth Boundary Air Quality Improvement Program | 3/15/1995 (county passed) | 9/21/1999, 64 FR 51051 | Lakeview PM-10 Attainment Plan.
Town of Lakeview Ordinance No. 748 | Prohibits Use of Solid Fuel Burning Devices, Provides Certain Exemptions and Establishes Enforcement Controls | 2/28/1995 (town adopted) | 9/21/1999, 64 FR 51051 | Lakeview PM-10 Attainment Plan.
Town of Lakeview Ordinance No. 749 | Prohibits Waste Burning; Restricts Open Burning, Repeals Ordinance No. 581 | 2/28/1995 (town adopted) | 9/21/1999, 64 FR 51051 | Lakeview PM-10 Attainment Plan.
Lake County Ordinance No. 29 | Prohibits Use of Solid Fuel Burning Devices, Provides Certain Exemptions and Establishes Enforcement Controls | 3/15/1995 (county adopted) | 9/21/1999, 64 FR 51051 | Lakeview PM-10 Attainment Plan.
Lake County Ordinance No. 30 | Prohibits Waste Burning and Restricts Open Burning | 3/15/1995 (county adopted) | 9/21/1999, 64 FR 51051 | Lakeview PM-10 Attainment Plan.
Medford Ordinance No. 6484 | Woodstove Curtailment | 11/03/1989 (city approved) | 7/24/2002, 67 FR 48388 | Medford Carbon Monoxide (CO) Maintenance Plan.
Union County Ordinance No. 1992-4 | Management and Control of Field Burning | 7/1/1992 (county effective) | 11/01/2001, 66 FR 55105 | Statewide Visibility Plan.
Jefferson County Ordinance No. 0-58-89 | Management and Control of Field Burning | 5/31/1989 (county passed) | 11/01/2001, 66 FR 55105 | Statewide Visibility Plan.
Codified Ordinances of Jackson County 1810.01 | Definitions | 5/2/1990 (county passed) | 6/19/2006, 71 FR 35163 | Medford-Ashland PM-10 Attainment Plan.
Codified Ordinances of Jackson County 1810.02 | Exceptions to chapter | 8/22/2001 (county passed | 6/19/2006, 71 FR 35163 | Medford-Ashland PM-10 Attainment Plan.
Codified Ordinances of Jackson County 1810.03 | Requirements for solid fuel heating device installation | 12/20/1989 (county passed) | 6/19/2006, 71 FR 35163 | Medford-Ashland PM-10 Attainment Plan.
Codified Ordinances of Jackson County 1810.04 | Solid fuel burning device omission standard | 5/02/1990 (county passed) | 6/19/2006, 71 FR 35163 | Medford-Ashland PM-10 Attainment Plan.
Codified Ordinances of Jackson County 1810.05 | Restriction of woodburning and emissions on high pollution days | 5/02/1990 (county passed) | 6/19/2006, 71 FR 35163 | Medford-Ashland PM-10 Attainment Plan.
Codified Ordinances of Jackson County 1810.06 | Trackout | 12/04/1985 (county passed) | 6/19/2006, 71 FR 35163 | Medford-Ashland PM-10 Attainment Plan.
Codified Ordinances of Jackson County 1810.07 | Open burning | 8/22/2001 (county passed) | 6/19/2006, 71 FR 35163 | Medford-Ashland PM-10 Attainment Plan.
Codified Ordinances of Jackson County 1810.08 | Burning of material emitting dense smoke or noxious odors in solid fuel burning devices | 12/20/1989 (county passed) | 6/19/2006, 71 FR 35163 | Medford-Ashland PM-10 Attainment Plan.
Codified Ordinances of Jackson County Exhibit A | [Map 1] | 5/02/1990 (county passed) | 6/19/2006, 71 FR 35163 | Medford-Ashland PM-10 Attainment Plan.
Codified Ordinances of Jackson County Exhibit B | Proposed Curtailment Boundary Jackson County | 5/02/1990 (county passed) | 6/19/2006, 71 FR 35163 | Medford-Ashland PM-10 Attainment Plan.
Codified Ordinances of Jackson County Exhibit C | [Map 2] | 5/02/1990 (county passed) | 6/19/2006, 71 FR 35163 | Medford-Ashland PM-10 Attainment Plan.
Codified Ordinances of Jackson County Exhibit D | Boundary Description Medford-Ashland Air Quality Maintenance Area | 5/02/1990 (county passed) | 6/19/2006, 71 FR 35163 | Medford-Ashland PM-10 Attainment Plan.
Code of the City of Medford, Oregon: 5.550 | Outside Burning | 3/16/2000 (city effective) | 6/19/2006, 71 FR 35163 | Medford-Ashland PM-10 Attainment Plan.
Code of the City of Medford, Oregon: 7.220 | Definitions | 9/17/1998 (city effective) | 6/19/2006, 71 FR 35163 | Medford-Ashland PM-10 Attainment Plan.
Code of the City of Medford, Oregon: 7.222 | Operation of Solid Fuel Burning Device Prohibition | 9/17/1998 (city effective) | 6/19/2006, 71 FR 35163 | Medford-Ashland PM-10 Attainment Plan.
Code of the City of Medford, Oregon: 7.224 | Exemptions | 9/17/1998 (city effective) | 6/19/2006, 71 FR 35163 | Medford-Ashland PM-10 Attainment Plan.
Code of the City of Medford, Oregon: 7.240 | Installation of Solid-Fuel Heating Devices | 8/02/1990 (city effective) | 6/19/2006, 71 FR 35163 | Medford-Ashland PM-10 Attainment Plan.
Code of the City of Medford, Oregon: 7.242 | Prohibited Materials | 9/17/1998 (city effective) | 6/19/2006, 71 FR 35163 | Medford-Ashland PM-10 Attainment Plan.
City of Central Point Municipal Code: 8.01.010 | Definitions | 1998 (city effective) | 6/19/2006, 71 FR 35163 | Medford-Ashland PM-10 Attainment Plan.
City of Central Point Municipal Code: 8.01.012 | Requirements for solid fuel burning device installation | 1998 (city effective) | 6/19/2006, 71 FR 35163 | Medford-Ashland PM-10 Attainment Plan.
City of Central Point Municipal Code: 8.01.014 | Solid fuel burning device emission standard | 1998 (city effective) | 6/19/2006, 71 FR 35163 | Medford-Ashland PM-10 Attainment Plan.
City of Central Point Municipal Code: 8.01.020 | Operation of solid fuel device prohibition | 1998 (city effective) | 6/19/2006, 71 FR 35163 | Medford-Ashland PM-10 Attainment Plan.
City of Central Point Municipal Code: 8.01.030 | Exemptions | 1998 (city effective) | 6/19/2006, 71 FR 35163 | Medford-Ashland PM-10 Attainment Plan.
City of Central Point Municipal Code: 8.01.032 | Prohibited materials | 1998 (city effective) | 6/19/2006, 71 FR 35163 | Medford-Ashland PM-10 Attainment Plan.
City of Central Point Municipal Code: 8.04.040 H | Penalty and abatement | 1979 (city effective) | 6/19/2006, 71 FR 35163 | Medford-Ashland PM-10 Attainment Plan.
City of Central Point Municipal Code: 8.04.095 | Trackout prohibited | 1994 (city effective) | 6/19/2006, 71 FR 35163 | Medford-Ashland PM-10 Attainment Plan.
City of Ashland Municipal Code: 10.30.005 | Definitions | 1998 (city effective) | 6/19/2006, 71 FR 35163 | Medford-Ashland PM-10 Attainment Plan.
City of Ashland Municipal Code: 10.30.010 | Outdoor and Indoor Burning Restricted | 1998 (city effective) | 6/19/2006, 71 FR 35163 | Medford-Ashland PM-10 Attainment Plan.
City of Ashland Municipal Code: 10.30.020 | Period When Outdoor Burning is Authorized | 2000 (city effective) | 6/19/2006, 71 FR 35163 | Medford-Ashland PM-10 Attainment Plan.
City of Ashland Municipal Code: 10.30.030 | Requirements for Permitted Fires | 1993 (city effective) | 6/19/2006, 71 FR 35163 | Medford-Ashland PM-10 Attainment Plan.
City of Ashland Municipal Code: 10.30.040 | Permits Required | 1993 (city effective) | 6/19/2006, 71 FR 35163 | Medford-Ashland PM-10 Attainment Plan.
City of Ashland Municipal Code: 9.24.010 | Definitions | 1998 (city effective) | 6/19/2006, 71 FR 35163 | Medford-Ashland PM-10 Attainment Plan.
City of Ashland Municipal Code: 9.24.020 | Requirements for Solid Fuel Heating Device Installation | 1998 (city effective) | 6/19/2006, 71 FR 35163 | Medford-Ashland PM-10 Attainment Plan.
City of Ashland Municipal Code: 9.24.030 | Solid Fuel Burning Device Emission Standard | 1998 (city effective) | 6/19/2006, 71 FR 35163 | Medford-Ashland PM-10 Attainment Plan.
City of Ashland Municipal Code: 9.24.040 | Restriction of Woodburning an Emissions on High Pollution Days | 1998 (city effective) | 6/19/2006, 71 FR 35163 | Medford-Ashland PM-10 Attainment Plan.
City of Ashland Municipal Code: 9.24.050 | Prohibited Materials | 1998 (city effective) | 6/19/2006, 71 FR 35163 | Medford-Ashland PM-10 Attainment Plan.
City of Talent Ordinance #565 | An ordinance of the city of Talent adopting a uniform fire code | 8/20/1992 (city effective) | 6/19/2006, 71 FR 35163 | Medford-Ashland PM-10 Attainment Plan.
City of Talent Ordinance #98-635-0 | An ordinance regulating the use of solid fuel burning devices within the city of Talent, Oregon | 3/04/1998 (city approved) | 6/19/2006, 71 FR 35163 | Medford-Ashland PM-10 Attainment Plan.
City of Phoenix Code: 8.16.050 | Burn days | 1982 (city effective) | 6/19/2006, 71 FR 35163 | Medford-Ashland PM-10 Attainment Plan.
City of Phoenix Code: 8.16.090 | Prohibited materials | 1982 (city effective) | 6/19/2006, 71 FR 35163 | Medford-Ashland PM-10 Attainment Plan.
City of Phoenix Code: 8.20.010 | Definitions | 1998 (city effective) | 6/19/2006, 71 FR 35163 | Medford-Ashland PM-10 Attainment Plan.
City of Phoenix Code: 8.20.020 | Requirements for solid fuel heating device installation | 1998 (city effective) | 6/19/2006, 71 FR 35163 | Medford-Ashland PM-10 Attainment Plan.
City of Phoenix Code: 8.20.030 | Solid fuel burning device emission standard | 1998 (city effective) | 6/19/2006, 71 FR 35163 | Medford-Ashland PM-10 Attainment Plan.
City of Phoenix Code: 8.20.040 | Restriction of woodburning and emissions on high pollution days | 1998 (city effective) | 6/19/2006, 71 FR 35163 | Medford-Ashland PM-10 Attainment Plan.
City of Phoenix Code: 8.20.050 | Prohibited materials | 1998 (city effective) | 6/19/2006, 71 FR 35163 | Medford-Ashland PM-10 Attainment Plan.
City of Jacksonville code: Ordinance 375 | An ordinance amending chapter 8.08.100 of the Jacksonville Municipal Code | 4/21/1992 (city effective) | 6/19/2006, 71 FR 35163 | Medford-Ashland PM-10 Attainment Plan.
City of Jacksonville Code Chapter 8.10 | Woodheating | February 1992 (city effective) | 6/19/2006, 71 FR 35163 | Medford-Ashland PM-10 Attainment Plan.
City of Eagle Point Code: 8.08.160 | Outside burning of refuse or rubbish | 2000 (city effective) | 6/19/2006, 71 FR 35163 | Medford-Ashland PM-10 Attainment Plan.
City of Eagle Point Code: 8.08.170 | Open burning restricted | 1990 (city effective) | 6/19/2006, 71 FR 35163 | Medford-Ashland PM-10 Attainment Plan.
City of Eagle Point Code: 8.08.180 | Purposes for open burning permit | 1990 (city effective) | 6/19/2006, 71 FR 35163 | Medford-Ashland PM-10 Attainment Plan.
City of Eagle Point Code: 8.08.190 | Times when open burning fire allowed | 1990 (city effective) | 6/19/2006, 71 FR 35163 | Medford-Ashland PM-10 Attainment Plan.
City of Eagle Point Code: 8.08.200 | Public nuisance | 1990 (city effective) | 6/19/2006, 71 FR 35163 | Medford-Ashland PM-10 Attainment Plan.
Klamath County Ordinance 63.06 | Chapter 406—Klamath County Clean Air Ordinance 63.06 | 12/31/2012 (county effective) | 08/25/2015, 80 FR 51470 | Except 406.300 and 406.400 Klamath Falls PM2.5 Attainment Plan.
City of Oakridge Ordinance No. 920 | An Ordinance Amending Section 7 of Ordinance 914 and Adopting New Standards for the Oakridge Air Pollution Control Program | 10/20/2016 (county approved) | 8/22/2022, 87 FR 51262 | Except section 6.
Lane County Code Chapter 9 | Restriction on Use of Solid Fuel Space Heating Devices | 2/9/2017 (county approved) | 8/22/2022, 87 FR 51262 | Except sections 9.145 and 9.150.

Table 4—EPA Approved Lane Regional Air Protection Agency (LRAPA) Rules for Oregon ¹
LRAPA citation | Title/subject | State effective date | EPA approval date | Explanations
Title 11—Policy and General Provisions
11-005 | Policy | 10/9/1979 | 9/9/1993, 58 FR 47385
11-010 | Construction and Validity | 10/9/1979 | 9/9/1993, 58 FR 47385
Title 12—Definitions
12-001 | General | 3/23/2018 | 10/5/2018, 83 FR 50274
12-005 | Definitions | 5/17/2019 | 10/31/2019, 84 FR 59327
12-010 | Abbreviations and Acronyms | 3/23/2018 | 10/5/2018, 83 FR 50274
12-020 | Exceptions | 5/17/2019 | 10/31/2019, 84 FR 59327
12-025 | Reference Materials | 5/17/2019 | 10/31/2019, 84 FR 58327
Title 16—Home Wood Heating Curtailment Program Enforcement
16-001 | Purpose | 7/13/1993 | 8/24/1994, 59 FR 43483
16-010 | Definitions | 7/13/1993 | 8/24/1994, 59 FR 43483
16-100 | Civil Penalty Schedule | 7/13/1993 | 8/24/1994, 59 FR 43483
16-110 | Classification of Violations | 7/13/1993 | 8/24/1994, 59 FR 43483
16-120 | Notice of Violation | 7/13/1993 | 8/24/1994, 59 FR 43483
16-130 | Appeal of Civil Penalty | 7/13/1993 | 8/24/1994, 59 FR 43483
16-140 | Conducting Contested Case Evidentiary Hearings | 7/13/1993 | 8/24/1994, 59 FR 43483
16-150 | Evidentiary Rules | 7/13/1993 | 8/24/1994, 59 FR 43483
16-160 | Final Orders | 7/13/1993 | 8/24/1994, 59 FR 43483
16-170 | Default Orders | 7/13/1993 | 8/24/1994, 59 FR 43483
Title 29—Designation of Air Quality Areas
29-0010 | Definitions | 11/18/2021 | 8/22/2022, 87 FR 51262
29-0020 | Designation of Air Quality Control Regions | 11/18/2021 | 8/22/2022, 87 FR 51262
29-0030 | Designation of Nonattainment Areas | 11/18/2021 | 8/22/2022, 87 FR 51262
29-0040 | Designation of Maintenance Areas | 11/18/2021 | 8/22/2022, 87 FR 51262
29-0050 | Designation of Prevention of Significant Deterioration Areas | 11/18/2021 | 8/22/2022, 87 FR 51262
29-0060 | Redesignation of Prevention of Significant Deterioration Areas | 11/18/2021 | 8/22/2022, 87 FR 51262
29-0070 | Special Control Areas | 11/18/2021 | 8/22/2022, 87 FR 51262
29-0080 | Motor Vehicle Inspection Boundary Designations | 11/18/2021 | 8/22/2022, 87 FR 51262
29-0090 | Oxygenated Gasoline Control Areas | 11/18/2021 | 8/22/2022, 87 FR 51262
Designation of Areas
29-0300 | Designation of Sustainment Areas | 11/18/2021 | 8/22/2022, 87 FR 51262
29-0310 | Designation of Reattainment Areas | 11/18/2021 | 8/22/2022, 87 FR 51262
29-0320 | Priority Sources | 11/18/2021 | 8/22/2022, 87 FR 51262
Title 30—Incinerator Regulations
30-010 | Definitions | 3/23/2018 | 10/5/2018, 83 FR 50274
30-015 | Best Available Control Technology for Solid and Infectious Waste Incinerators | 3/31/2014 | 10/5/2018, 83 FR 50274
30-020 | Emission Limitations for Solid and Infectious Waste Incinerators | 3/31/2014 | 10/5/2018, 83 FR 50274 | Except (2) and (8).
30-025 | Design and Operation for Solid and Infectious Waste Incinerators | 3/31/2014 | 10/5/2018, 83 FR 50274 | Except (9).
30-030 | Continuous Emission Monitoring for Solid and Infectious Waste Incinerators | 3/31/2014 | 10/5/2018, 83 FR 50274 | Except (1)(I) and (2)(E).
30-035 | Reporting and Testing for Solid and Infectious Waste Incinerators | 3/31/2014 | 10/5/2018, 83 FR 50274
30-040 | Compliance for Solid and Infectious Waste Incinerators | 3/31/2014 | 10/5/2018, 83 FR 50274
30-045 | Emission Limitations of Crematory Incinerators | 3/31/2014 | 10/5/2018, 83 FR 50274 | Except (3).
30-050 | Design and Operation of Crematory Incinerators | 3/31/2014 | 10/5/2018, 83 FR 50274
30-055 | Monitoring and Reporting for Crematory Incinerators | 3/31/2014 | 10/5/2018, 83 FR 50274
30-060 | Compliance of Crematory Incinerators | 3/31/2014 | 10/5/2018, 83 FR 50274
Title 31—Public Participation
31-0010 | Purpose | 3/23/2018 | 10/5/2018, 83 FR 50274
31-0020 | Applicability | 5/17/2019 | 10/31/2019, 84 FR 58327
31-0030 | Public Notice Categories and Timing | 5/17/2019 | 10/31/2019, 84 FR 58327
31-0040 | Public Notice Information | 5/17/2019 | 10/31/2019, 84 FR 58327
31-0050 | Public Notice Procedures | 5/17/2019 | 10/31/2019, 84 FR 58327
31-0060 | Persons Required to be Notified | 3/23/2018 | 10/5/2018, 83 FR 50274
31-0080 | Issuance or Denial of Permit | 3/23/2018 | 10/5/2018, 83 FR 50274
Title 32—Emission Standards
32-001 | Definitions | 3/23/2018 | 10/5/2018, 83 FR 50274
32-005 | Highest and Best Practicable Treatment and Control Required | 3/23/2018 | 10/5/2018, 83 FR 50274
32-006 | Pollution Prevention | 3/23/2018 | 10/5/2018, 83 FR 50274
32-007 | Operating and Maintenance Requirements | 3/23/2018 | 10/5/2018, 83 FR 50274
32-008 | Typically-Achievable Control Technology Requirements | 3/23/2018 | 10/5/2018, 83 FR 50274
32-009 | Additional Control Requirements for Stationary Sources of Air Contaminants | 3/23/2018 | 10/5/2018, 83 FR 50274
32-010 | Visible Air Contaminant Limitations | 3/23/2018 | 10/5/2018, 83 FR 50274
32-015 | Particulate Matter Emission Limitations for Sources Other than Fuel Burning Equipment, Refuse Burning Equipment, and Fugitive Emissions | 3/23/2018 | 10/5/2018, 83 FR 50274
32-020 | Particulate Matter Weight Standards—Existing Combustion Sources | 3/23/2018 | 10/5/2018, 83 FR 50274
32-030 | Particulate Matter Weight Standards—New Combustion Sources | 3/23/2018 | 10/5/2018, 83 FR 50274
32-045 | Process Weight Emission Limitations and Determination of Process Weight | 3/23/2018 | 10/5/2018, 83 FR 50274
32-050 | Concealment and Masking of Emissions | 3/23/2018 | 10/5/2018, 83 FR 50274
32-060 | Air Conveying Systems | 3/23/2018 | 10/5/2018, 83 FR 50274
Gaseous Emission Limitations
32-065 | Sulfur Content of Fuels | 3/23/2018 | 10/5/2018, 83 FR 50274
32-070 | Sulfur Dioxide Emission Limitations | 3/23/2018 | 10/5/2018, 83 FR 50274
32-090 | Other Emissions | 3/31/2014 | 10/5/2018, 83 FR 50274
32-100 | Alternative Emission Controls (Bubble) | 3/23/2018 | 10/5/2018, 83 FR 50274
32-8010 | Particulate Matter Emissions Standards for Process Equipment | 3/23/2018 | 10/5/2018, 83 FR 50274
Title 33—Prohibited Practices and Control of Special Classes of Industry
33-005 | Definitions | 3/23/2018 | 10/5/2018, 83 FR 50274
33-060 | Board Products Industries (Hardboard, Particleboard, Plywood, Veneer) | 3/23/2018 | 10/5/2018, 83 FR 50274
33-065 | Charcoal Producing Plants | 3/23/2018 | 10/5/2018, 83 FR 50274
33-070 | Kraft Pulp Mills | 3/23/2018 | 10/5/2018, 83 FR 50274 | Except in (1) the definitions of “non-condensables”, “other sources”, and “TRS”, (3)(a), (4)(b) (5)(b), (6)(a), and (6)(b).
33-500 | Particulate Matter Emissions Standards for Process Equipment | 3/23/2018 | 10/5/2018, 83 FR 50274
Title 34—Stationary Source Notification Requirements
34-005 | Definitions | 3/23/2018 | 10/5/2018, 83 FR 50274
34-010 | Applicability | 3/23/2018 | 10/5/2018, 83 FR 50274
34-015 | Request for Information | 3/23/2018 | 10/5/2018, 83 FR 50274
34-016 | Records: Maintaining and Reporting | 3/23/2018 | 10/5/2018, 83 FR 50274
34-017 | Enforcement; Credible Evidence | 3/23/2018 | 10/5/2018, 83 FR 50274
34-020 | Information Exempt from Disclosure | 3/23/2018 | 10/5/2018, 83 FR 50274
Registration
34-025 | Registration is General | 3/23/2018 | 10/5/2018, 83 FR 50274
34-030 | Source Registration Requirements and Re-Registration and Maintaining Registration | 3/23/2018 | 10/5/2018, 83 FR 50274
Notice of Construction and Approval of Plans
34-034 | Requirements for Construction | 3/23/2018 | 10/5/2018, 83 FR 50274
34-035 | Types of Construction/Modification Changes | 3/23/2018 | 10/5/2018, 83 FR 50274
34-036 | Notice to Construct | 3/23/2018 | 10/5/2018, 83 FR 50274
34-037 | Construction Approval | 3/23/2018 | 10/5/2018, 83 FR 50274
34-038 | Approval to Operate | 3/23/2018 | 10/5/2018, 83 FR 50274
Title 35—Stationary Source Testing and Monitoring
35-0010 | Definitions | 3/23/2018 | 10/5/2018, 83 FR 50274
Sampling, Testing and Measurement
35-0110 | Applicability | 3/23/2018 | 10/5/2018, 83 FR 50274
35-0120 | Program | 3/23/2018 | 10/5/2018, 83 FR 50274
35-0130 | Stack Heights and Dispersion Techniques | 3/23/2018 | 10/5/2018, 83 FR 50274
35-0140 | Methods | 3/23/2018 | 10/5/2018, 83 FR 50274
35-0150 | LRAPA Testing | 3/31/2014 | 10/5/2018, 83 FR 50274
Title 37—Air Contaminant Discharge Permits
37-0010 | Purpose | 5/17/2019 | 10/31/2019, 84 FR 58327
37-0020 | Applicability and Jurisdiction | 5/17/2019 | 10/31/2019, 84 FR 58327
37-0025 | Types of Permits | 5/17/2019 | 10/31/2019, 84 FR 58327
37-0030 | Definitions | 5/17/2019 | 10/31/2019, 84 FR 58327
37-0040 | Application Requirements | 5/17/2019 | 10/31/2019, 84 FR 58327
37-0052 | Construction ACDP | 3/23/2018 | 10/5/2018, 83 FR 50274
37-0054 | Short Term Activity ACDPs | 3/23/2018 | 10/5/2018, 83 FR 50274
37-0056 | Basic ACDPs | 3/23/2018 | 10/5/2018, 83 FR 50274
37-0060 | General Air Contaminant Discharge Permits | 3/23/2018 | 10/5/2018, 83 FR 50274
37-0062 | General ACDP Attachments | 3/23/2018 | 10/5/2018, 83 FR 50274
37-0064 | Simple ACDPs | 3/23/2018 | 10/5/2018, 83 FR 50274
37-0066 | Standard ACDPs | 3/23/2018 | 10/5/2018, 83 FR 50274
37-0068 | Simple and Standard ACDP Attachments | 3/23/2018 | 10/5/2018, 83 FR 50274
37-0070 | Permitting a Source with Multiple Activities or Processes at a Single Adjacent or Contiguous Site | 3/23/2018 | 10/5/2018, 83 FR 50274
37-0082 | Termination or Revocation of an ACDP | 3/23/2018 | 10/5/2018, 83 FR 50274
37-0084 | LRAPA-Initiated Modification | 3/23/2018 | 10/5/2018, 83 FR 50274
37-0090 | Sources Subject to ACDPs and Fees | 5/17/2019 | 10/31/2019, 84 FR 58327
37-0094 | Temporary Closure | 3/23/2018 | 10/5/2018, 83 FR 50274
37-8010 | Table 1—Activities and Sources | 3/23/2018 | 10/5/2018, 83 FR 50274
37-8020 | Table 2—Air Contaminant Discharge Permits | 5/17/2019 | 10/31/2019, 84 FR 58327
Title 38—New Source Review
38-0010 | Applicability and General Prohibitions, General Requirements and Jurisdiction | 3/23/2018 | 10/5/2018, 83 FR 50274
38-0020 | Definitions | 3/23/2018 | 10/5/2018, 83 FR 50274
38-0025 | Major Modification | 3/23/2018 | 10/5/2018, 83 FR 50274
38-0030 | New Source Review Procedural Requirements | 3/23/2018 | 10/5/2018, 83 FR 50274
38-0034 | Exemptions | 3/23/2018 | 10/5/2018, 83 FR 50274
38-0038 | Fugitive and Secondary Emissions | 3/23/2018 | 10/5/2018, 83 FR 50274
38-0040 | Review of Sources Subject to Major NSR or Type A State NSR for Compliance With Regulations | 3/23/2018 | 10/5/2018, 83 FR 50274
Major New Source Review
38-0045 | Requirements for Sources in Sustainment Areas | 3/23/2018 | 10/5/2018, 83 FR 50274
38-0050 | Requirements for Sources in Nonattainment Areas | 3/23/2018 | 10/5/2018, 83 FR 50274
38-0055 | Requirements for Sources in Reattainment Areas | 3/23/2018 | 10/5/2018, 83 FR 50274
38-0060 | Records; Maintaining and Reporting | 3/23/2018 | 10/5/2018, 83 FR 50274
38-0070 | Prevention of Significant Deterioration Requirements for Sources in Attainment or Unclassified Areas | 3/23/2018 | 10/5/2018, 83 FR 50274
State New Source Review
38-0245 | Requirements for Sources in Sustainment Areas | 3/23/2018 | 10/5/2018, 83 FR 50274
38-0250 | Requirements for Sources in Nonattainment Areas | 3/23/2018 | 10/5/2018, 83 FR 50274
38-0255 | Requirements for Sources in Reattainment Areas | 3/23/2018 | 10/5/2018, 83 FR 50274
38-0260 | Requirements for Sources in Maintenance Areas | 3/23/2018 | 10/5/2018, 83 FR 50274
38-0270 | Requirement for Sources in Attainment and Unclassified Areas | 3/23/2018 | 10/5/2018, 83 FR 50274
Net Air Quality Benefit Emission Offsets
38-0500 | Net Air Quality Benefit for Sources Locating Within or Impacting Designated Areas | 3/23/2018 | 10/5/2018, 83 FR 50274
38-0510 | Common Offset Requirements | 3/23/2018 | 10/5/2018, 83 FR 50274 | Except (3).
38-0530 | Requirements for Demonstrating Net Air Quality Benefit for Non-Ozone Areas | 3/23/2018 | 10/5/2018, 83 FR 50274
38-0540 | Sources in a Designated Area Impacting Other Designated Areas | 3/23/2018 | 10/5/2018, 83 FR 50274
Title 39—Contingency for PM10 Sources in Eugene-Springfield Non-Attainment Area
39-001 | Purpose | 11/13/1991 | 8/24/1994, 59 FR 43483
39-005 | Relation to Other Rules | 11/13/1991 | 8/24/1994, 59 FR 43483
39-010 | Applicability | 11/13/1991 | 8/24/1994, 59 FR 43483
39-015 | Definitions | 11/13/1991 | 8/24/1994, 59 FR 43483
39-020 | Compliance Schedule for Existing Sources | 11/13/1991 | 8/24/1994, 59 FR 43483
39-025 | Wood-Waste Boilers | 11/13/1991 | 8/24/1994, 59 FR 43483
39-030 | Veneer Dryers | 11/13/1991 | 8/24/1994, 59 FR 43483
39-035 | Particle Board Plants and Wood Particle Dryers | 11/13/1991 | 8/24/1994, 59 FR 43483
39-040 | Kraft Pulp Mills | 11/13/1991 | 8/24/1994, 59 FR 43483
39-050 | Air Conveying Systems | 11/13/1991 | 8/24/1994, 59 FR 43483
39-055 | Fugitive Dust | 11/13/1991 | 8/24/1994, 59 FR 43483
39-060 | Open Burning | 11/13/1991 | 8/24/1994, 59 FR 43483
Title 40—Air Quality Analysis Requirements
40-0010 | Purpose | 3/23/2018 | 10/5/2018, 83 FR 50274
40-0020 | Definitions | 3/23/2018 | 10/5/2018, 83 FR 50274
40-0030 | Procedural Requirements | 3/23/2018 | 10/5/2018, 83 FR 50274
40-0040 | Air Quality Models | 3/23/2018 | 10/5/2018, 83 FR 50274
40-0045 | Requirements for Analysis in Maintenance Areas | 3/23/2018 | 10/5/2018, 83 FR 50274
40-0050 | Requirements for Analysis in PSD Class II and Class III Areas | 3/23/2018 | 10/5/2018, 83 FR 50274
40-0060 | Requirements for Demonstrating Compliance with Standards and Increments in PSD Class I Areas | 3/23/2018 | 10/5/2018, 83 FR 50274
40-0070 | Requirements for Demonstrating Compliance with Air Quality Related Values Protection | 3/23/2018 | 10/5/2018, 83 FR 50274
Title 41—Emission Reduction Credits
41-0010 | Applicability | 3/31/2014 | 10/5/2018, 83 FR 50274
41-0020 | Definitions | 3/23/2018 | 10/5/2018, 83 FR 50274
41-0030 | Emission Reduction Credits | 3/23/2018 | 10/5/2018, 83 FR 50274
Title 42—Stationary Source Plant Site Emission Limits
42-0010 | Policy | 3/23/2018 | 10/5/2018, 83 FR 50274
42-0020 | Applicability | 3/23/2018 | 10/5/2018, 83 FR 50274
42-0030 | Definitions | 3/23/2018 | 10/5/2018, 83 FR 50274
Criteria for Establishing Plant Site Emission Limits
42-0035 | General Requirements for Establishing All PSELs | 3/23/2018 | 10/5/2018, 83 FR 50274
42-0040 | Generic Annual PSEL | 3/23/2018 | 10/5/2018, 83 FR 50274
42-0041 | Source Specific Annual PSEL | 3/23/2018 | 10/5/2018, 83 FR 50274
42-0042 | Short Term PSEL | 3/23/2018 | 10/5/2018, 83 FR 50274
42-0046 | Netting Basis | 3/23/2018 | 10/5/2018, 83 FR 50274 |
42-0048 | Baseline Period and Baseline Emission Rate | 3/23/2018 | 10/5/2018, 83 FR 50274
42-0051 | Actual Emissions | 3/23/2018 | 10/5/2018, 83 FR 50274
42-0055 | Unassigned Emissions | 3/23/2018 | 10/5/2018, 83 FR 50274
42-0080 | Plant Site Emission Limit Compliance | 3/23/2018 | 10/5/2018, 83 FR 50274
42-0090 | Combining and Splitting Sources and Changing Primary SIC Code | 3/23/2018 | 10/5/2018, 83 FR 50274
Title 47—Rules for Outdoor Burning
47-001 | General Policy | 7/13/2018 | 2/20/2019, 84 FR 5000
47-005 | Exemptions from these Rules | 7/13/2018 | 2/20/2019, 84 FR 5000
47-010 | Definitions | 7/13/2018 | 2/20/2019, 84 FR 5000 | Except the definition of “nuisance”.
47-015 | Open Burning Requirements | 7/13/2018 | 2/20/2019, 84 FR 5000 | Except (1)(d) and (1)(h).
47-020 | Letter Permits | 7/13/2018 | 2/20/2019, 84 FR 5000 | Except (3), (9)(i), and (10).
Title 48—Rules for Fugitive Emissions
48-001 | General Policy | 3/23/2018 | 10/5/2018, 83 FR 50274
48-005 | Definitions | 3/23/2018 | 10/5/2018, 83 FR 50274
48-010 | General Applicability | 3/23/2018 | 10/5/2018, 83 FR 50274
48-015 | General Requirements for Fugitive Emissions | 3/23/2018 | 10/5/2018, 83 FR 50274
Title 50—Ambient Air Standards and PSD Increments
50-001 | Definitions | 3/23/2018 | 10/5/2018, 83 FR 50274
Ambient Air Quality Standards
50-005 | Purpose and Scope of Ambient Air Quality Standards | 3/23/2018 | 10/5/2018, 83 FR 50274
50-015 | Suspended Particulate Matter | 3/23/2018 | 10/5/2018, 83 FR 50274
50-025 | Sulfur Dioxide | 3/23/2018 | 10/5/2018, 83 FR 50274
50-030 | Carbon Monoxide | 3/23/2018 | 10/5/2018, 83 FR 50274
50-035 | Ozone | 3/23/2018 | 10/5/2018, 83 FR 50274
50-040 | Nitrogen Dioxide | 3/23/2018 | 10/5/2018, 83 FR 50274
50-045 | Lead | 3/23/2018 | 10/5/2018, 83 FR 50274
PSD Increments
50-050 | General | 3/23/2018 | 10/5/2018, 83 FR 50274
50-055 | Ambient Air PSD Increments | 3/23/2018 | 10/5/2018, 83 FR 50274
50-060 | Ambient Air Ceilings | 3/31/2014 | 10/5/2018, 83 FR 50274
50-065 | Ambient Air Quality Impact Levels for Maintenance Areas | 3/23/2018 | 10/5/2018, 83 FR 50274
Title 51—Air Pollution Emergencies
51-005 | Introduction | 3/23/2018 | 10/5/2018, 83 FR 50274
51-007 | Definitions | 3/23/2018 | 10/5/2018, 83 FR 50274
51-010 | Episode Stage Criteria for Air Pollution Emergencies | 3/23/2018 | 10/5/2018, 83 FR 50274
51-011 | Special Conditions | 3/23/2018 | 10/5/2018, 83 FR 50274
51-015 | Source Emission Reduction Plans | 3/23/2018 | 10/5/2018, 83 FR 50274
51-020 | Preplanned Abatement Strategies | 3/23/2018 | 10/5/2018, 83 FR 50274
51-025 | Implementation | 3/23/2018 | 10/5/2018, 83 FR 50274
Table I | Air Pollution Episode, Alert Conditions Emission Reduction Plan | 3/23/2018 | 10/5/2018, 83 FR 50274
Table II | Air Pollution Episode, Warning Conditions Emission Reduction Plan | 3/23/2018 | 10/5/2018, 83 FR 50274
Table III | Air Pollution Episode, Emergency Conditions Emission Reduction Plan | 3/23/2018 | 10/5/2018, 83 FR 50274
¹ The EPA approves the requirements in Table 4 of this paragraph (c) only to the extent they apply to (1) pollutants for which NAAQS have been established (criteria pollutants) and precursors to those criteria pollutants as determined by the EPA for the applicable geographic area; and (2) any additional pollutants that are required to be regulated under Part C of Title I of the CAA, but only for the purposes of meeting or avoiding the requirements of Part C of Title I of the CAA.

(d) EPA approved state source-specific requirements.

EPA Approved Oregon Source-Specific Requirements ¹
Name of source | Permit No. | State effective date | EPA approval date | Explanations
Industrial Laundry & Dry Cleaners | 26-3025 | 12/9/1980 | 8/27/1981, 46 FR 43142 | Air Contaminant Discharge Permit.
VANPLY, Inc. & Spalding Pulp & Paper Co | Stipulation and Consent Final Order | 12/30/1980 | 8/27/1981, 46 FR 43142 | Transfer by VANPLY, INC. of a VOC Offset to Spalding Pulp & Paper Co.
Spaulding Pulp and Paper Co | 36-6041 | 12/11/1980 | 8/27/1981, 46 FR 43142 | Air Contaminant Discharge Permit—Addendum No. 1.
Weyerhaeuser Company—Bly, Oregon | 18-0037 | 2/3/1981 | 11/6/1981, 46 FR 55101 | Air Contaminant Discharge Permit—Conditions 5 and 6.
Intel Corporation | 34-2681 | 9/24/1993 (State effective date of Title V Program) | 7/18/1996, 61 FR 37393 | Oregon Title-V Operating Permit—Page 11.
Cascade General (Port of Portland) | 26-3224 | 10/4/1995 | 3/7/1997, 62 FR 10455 | Air Contaminant Discharge Permit—Condition 19 of Addendum 2.
White Consolidated Inc | 34-2060 | 8/1/1995 | 3/7/1997, 62 FR 10455 | Air Contaminant Discharge Permit—Conditions 11,12 and 13 in Addendum No. 2.
PCC Structurals, Inc | 26-1867 | 4/4/1997 | 6/20/1997, 62 FR 33548 | Air Contaminant Discharge Permit—Conditions 19, 20 and 21 in Addendum No. 2.
Dura Industries | 26-3112 | 9/14/1995 | 3/31/1998, 63 FR 15293 | Air Contaminant Discharge Permit.
Ostrander Construction Company Fremont Sawmill | ACDP No. 19-0002 | 4/29/1998 | 9/21/1999, 64 FR 51051 | Air Contaminant Discharge Permit.
Ash Grove Cement Company | Permit No. 01-0029-TV-01 | 10/16/2020 | 10/8/2024, 89 FR 81361 | Permit conditions (3), (9) through (11), (14), (16) through (28), (42), (45) through (76), (84) through (97), (99), (100), and (102) only.
Biomass One, L.P | Order No. 15-0159 | 8/9/2021 | 10/8/2024, 89 FR 81361 |
Boise Cascade Wood Products, LLC—Elgin Complex | Order No. 31-0006 | 8/12/2021 | 10/8/2024, 89 FR 81361 |
Boise Cascade Wood Products, LLC—Elgin Complex | Permit No. 31-0006-TV-01 | 12/5/2016 | 10/8/2024, 89 FR 81361 | Permit condition (56), (59) through (75), (77), and (78) only.
Boise Cascade Wood Products, LLC—Medford | Order No. 15-0004 | 8/9/2021 | 10/8/2024, 89 FR 81361 |
Boise Cascade Wood Products, LLC—Medford | Permit No. 15-0004-TV-01 | 2/20/2020 | 10/8/2024, 89 FR 81361 | Permit conditions (71), (72), and (74) through (88) only.
Cascade Pacific Pulp, LLC—Halsey Pulp Mill | Order No. 22-3501-A2 | 8/25/2023 | 10/8/2024, 89 FR 81361 |
Cascades Tissue Group: A Division of Cascades Holding US Inc | Order No. 05-1849 | 8/18/2021 | 10/8/2024, 89 FR 81361 |
Cascades Tissue Group: A Division of Cascades Holding US Inc | Permit No. 05-1849-TV-01 | 04/6/2018 | 10/8/2024, 89 FR 81361 | Permit conditions (24), (25), (27), and (29) through (43) only.
Collins Products, L.L.C | Permit No. 18-0013-TV-01 | 1/26/2015 | 10/8/2024, 89 FR 81361 | Permit conditions (3), (14) through (16), (19) through (24), (34 through (42), (63) through (75), and (77) only.
Columbia Forest Products, Inc | Permit No. 18-0014-TV-01 | 9/26/2017 | 10/8/2024, 89 FR 81361 | Permit conditions (3), (8) through (20), (22), (23), (34) through (52), (58) through (66), (67—introductory paragraph), (67.a), (67.b.iii) through (67.b.v), and (68) through (70).
EVRAZ Inc | Order No. 26-1865 | 8/9/2021 | 10/8/2024, 89 FR 81361 |
Gas Transmission Northwest LLC—Compressor Station 12 | Order No. 09-0084 | 8/9/2021 | 10/8/2024, 89 FR 81361 |
Gas Transmission Northwest LLC—Compressor Station 12 | Permit No. 09-0084-TV-01 | 8/10/2017 | 10/8/2024, 89 FR 81361 | Permit conditions (32) through (34) and (37) through (50) only.
Gas Transmission Northwest LLC—Compressor Station 13 | Order No. 03-2729-A1 | 6/1/2022 | 10/8/2024, 89 FR 81361 | OAH CASE NO. 2021-ABC-04835; DEQ CASE NO. AQ/RH-HQ-2021-140.
Gas Transmission Northwest LLC—Compressor Station 13 | Permit No. 18-0096-TV-01 | 7/11/2018 | 10/8/2024, 89 FR 81361 | Permit conditions (24) through (26), (32) through (35), and (37) through (44) only.
Georgia-Pacific—Toledo LLC | Order No. 21-0005, Amendment No. 21-005-A1 | 12/5/2022 | 10/8/2024, 89 FR 81361 |
Georgia Pacific—Wauna Mill | Order No. 04-0004, Amendment No. 04-004-A1 | 12/5/2022 | 10/8/2024, 89 FR 81361 |
Gilchrist Forest Products | Permit No. 18-0005-TV-01 | 7/25/2023 | 10/8/2024, 89 FR 81361 | Permit conditions (4), (5), (9), (10), (12) though (19), (41) through (43), (45) through (59), and (61) only.
International Paper—Springfield | Order No. 208850 | 8/9/2021 | 10/8/2024, 89 FR 81361 |
International Paper—Springfield | Permit No. 208850 | 10/4/2016 | 10/8/2024, 89 FR 81361 | Permit conditions (186) through (189), (192), and (198) only.
JELD-WEN | Permit No. 18-0006-TV-01 | 12/01/2021 | 10/8/2024, 89 FR 81361 | Permit conditions (55) through (77) and (80) through (87) only.
JELD-WEN | Permit No. 18-0006-TV-01, Addendum No. 1 | 8/11/2022 | 10/8/2024, 89 FR 81361 | Permit conditions 53 and 53b only.
Kingsford Manufacturing Company | Permit No. 204402, addendum No. 2 | 11/15/2021 | 10/8/2024, 89 FR 81361 | Permit conditions (71) through (73) and (75) through (91) only.
Klamath Energy LLC—Klamath Cogeneration | Permit No. 18-0003-TV-01 | 6/12/2017 | 10/8/2024, 89 FR 81361 | Permit conditions (10) through (16), (18), (24) through (28), (32) through (37), (39) through (49), (51), (52), and (54), and (56) only.
Klamath Energy LLC—Klamath Cogeneration | Permit No. 18-0003-TV-01, Addendum No. 1 | 12/8/2020 | 10/8/2024, 89 FR 81361 | Permit conditions (3.a), (3.b), (61.l), and (66.b.xii).
Northwest Pipeline LLC—Baker Compressor Station | Order No. 01-0038, amendment 01-0038-A1 | 2/1/2022 | 10/8/2024, 89 FR 81361 |
Northwest Pipeline LLC—Baker Compressor Station | Permit No. 01-0038-TV-01 | 1/12/2017 | 10/8/2024, 89 FR 81361 | Permit conditions (27) through (30) and (32) through (43) only.
Northwest Pipeline LLC—Oregon City Compressor Station | Order No. 03-2729, amendment 03-2729-A1 | 2/1/2022 | 10/8/2024, 89 FR 81361 |
Northwest Pipeline LLC—Oregon City Compressor Station | Permit No. 03-2729-TV-01 | 2/19/2013 | 10/8/2024, 89 FR 81361 | Permit conditions (7), (19), (25) through (27), (38), (41), (45), and (50) through (65).
Ochoco Lumber Company | Permit No. 12-0032-ST-01 | 6/25/2019 | 10/8/2024, 89 FR 81361 | Permit conditions (1.1) through (1.3), (1.6), ( 2.1) through (2.5), (4.1) though (4.4), and (5.1) through (6.2).
Owens-Brockway Glass Container Inc | Order No. 26-1876 | 8/9/2021 | 10/8/2024, 89 FR 81361 |
Owens-Brockway Glass Container Inc | Permit No. 26-1876-TV-01 | 12/10/2019 | 10/8/2024, 89 FR 81361 | Permit conditions (33) through (48) only.
Pacific Wood Laminates, Inc | Permit No. 08-0003-TV-01 | 12/30/2019 | 10/8/2024, 89 FR 81361 | Permit conditions (3), (9), (10), (12) through (19), (26) through (41), (56) through (71), and (73) only.
PGE Beaver Plant/Port Westward I Plant | Order No. 05-2606 | 8/10/2021 | 10/8/2024, 89 FR 81361 |
PGE Beaver Plant/Port Westward I Plant | Permit No. 05-2520 | 01/21/2009 | 10/8/2024, 89 FR 81361 | Permit conditions (62) through (66), (68) through (78), (79.a), (80) through (83), (85), (87), (88.a), (89.d), (89.f), and (89.i) only.
Roseburg Forest Products—Dillard | Order No. 10-0025 | 8/9/2021 | 10/8/2024, 89 FR 81361 |
Roseburg Forest Products—Medford MDF | Permit No. 15-0073-TV-01 | 08/18/2022 | 10/8/2024, 89 FR 81361 | Permit conditions (44) through (46), (48) through (61), (63), and (64) only.
Roseburg Forest Products—Riddle Plywood | Permit No. 10-0078-TV-01 | 07/31/2019 | 10/8/2024, 89 FR 81361 | Permit conditions (65), (66), (68) through (81) only.
Swanson Group Mfg. LLC | Permit No. 10-0045-TV-01 | 06/12/2017 | 10/8/2024, 89 FR 81361 | Permit conditions (4), (10) through (24), (25—introductory paragraph), (25.a) through (25.c), (27) through (40), (50) through (64), and (66) only.
Timber Products Co. Limited Partnership | Permit No. 15-0025-TV-01 | 6/23/2022 | 10/8/2024, 89 FR 81361 | Permit conditions (70) through (72) and (74) through (90) only.
Willamette Falls Paper Company | Order No. 03-2145 | 8/9/2021 | 10/8/2024, 89 FR 81361 |
Willamette Falls Paper Company | Permit No. 03-2145-TV-01 | 2/24/2016 | 10/8/2024, 89 FR 81361 | Permit conditions (40) through (55) only.
Woodgrain Millwork LLC—Particleboard | Permit No. 31-0002-TV-01 | 5/24/2021 | 10/8/2024, 89 FR 81361 | Permit conditions (3), (12) through (21), (22—introductory paragraph), (22.a), (22.e), (22.f), (23), (25) through (28), (30) through (35), (37), (39) through (41), (43), (44), (46), (48), (49), (51) through (72), (80) through (94), and (96) only.
¹ The EPA does not have the authority to remove these source-specific requirements in the absence of a demonstration that their removal would not interfere with attainment or maintenance of the NAAQS, violate any prevention of significant deterioration increment or result in visibility impairment. The Oregon Department of Environmental Quality may request removal by submitting such a demonstration to the EPA as a SIP revision.

(e) EPA approved nonregulatory provisions and quasi-regulatory measures.

Table 1—Oregon State Statutes Approved But Not Incorporated by Reference
State citation | Title/subject | State effective date | EPA approval date | Explanations
ORS Chapter 468 | General Administration, Enforcement, Pollution Control Facilities Tax Credit | 11/4/1993 | 7/19/1995, 60 FR 37013 |
ORS Chapter 468A | Air Pollution Control, Regional Air Quality Control Authorities, Motor Vehicle Pollution Control, Field Burning and Propane | 11/4/1993 | 7/19/1995, 60 FR 37013 | Except 468A.075 and 468A.330.
ORS Chapter 468A.330 | Small Business Stationary Source Technical and Environmental Compliance Assistance Program | 11/4/1993 | 9/5/1995, 60 FR 46025 |
ORS Chapter 477.013 | Smoke Management Plan; rules | 3/1/2019 | 5/25/2021, 86 FR 27976 |

Table 2—Oregon Administrative Rules Approved But Not Incorporated by Reference
State citation | Title/subject | State effective date | EPA approval date | Explanations
Oregon Administrative Rules
Division 11—Rules of General Applicability and Organization
011-0005 | Definitions | 1/6/2014 | 10/23/2015, 80 FR 64346
011-0009 | Incorporation of Attorney General's Uniform and Model Rules | 3/20/2008 | 4/25/2013, 78 FR 24347
011-0010 | Notice of Rulemaking | 3/20/2008 | 4/25/2013, 78 FR 24347
011-0024 | Rulemaking Process | 1/6/2014 | 10/23/2015, 80 FR 64346
011-0029 | Policy on Disclosure of the Relationship Between Proposed Rules and Federal Requirements | 1/6/2014 | 10/23/2015, 80 FR 64346
011-0046 | Petition to Promulgate, Amend, or Repeal Rule: Content of Petition, Filing or Petition | 1/6/2014 | 10/23/2015, 80 FR 64346
011-0053 | Periodic Rule Review | 1/6/2014 | 10/23/2015, 80 FR 64346
011-0061 | Declaratory Ruling: Institution of Proceedings, Consideration of Petition and Disposition of Petition | 1/6/2014 | 10/23/2015, 80 FR 64346
011-0310 | Purpose | 1/6/2014 | 10/23/2015, 80 FR 64346
011-0330 | Requests for Review or to Obtain Copies of Public Records | 1/6/2014 | 10/23/2015, 80 FR 64346
011-0340 | Costs for Record Review and Copying | 1/6/2014 | 10/23/2015, 80 FR 64346
011-0360 | Collecting Fees | 1/6/2014 | 10/23/2015, 80 FR 64346
011-0370 | Certification of Copies of Records | 1/6/2014 | 10/23/2015, 80 FR 64346
011-0380 | Fee Waivers and Reductions | 1/6/2014 | 10/23/2015, 80 FR 64346
011-0390 | Exempt Records | 1/6/2014 | 10/23/2015, 80 FR 64346
011-0500 | Contested Case Proceedings Generally | 1/6/2014 | 10/23/2015, 80 FR 64346
011-0510 | Agency Representation by Environmental Law Specialist | 1/6/2014 | 10/23/2015, 80 FR 64346
011-0515 | Authorized Representative of a Participant other than a Natural Person in a Contested Case Hearing | 1/6/2014 | 10/23/2015, 80 FR 64346
011-0520 | Liability for the Acts of a Person's Employees | 1/6/2014 | 10/23/2015, 80 FR 64346
011-0525 | Service and Filing of Documents | 1/6/2014 | 10/23/2015, 80 FR 64346
011-0530 | Requests for Hearing | 1/6/2014 | 10/23/2015, 80 FR 64346
011-0535 | Final Orders by Default | 1/6/2014 | 10/23/2015, 80 FR 64346
011-0540 | Consolidation or Bifurcation of Contested Case Hearings | 1/6/2014 | 10/23/2015, 80 FR 64346
011-0545 | Burden and Standard of Proof in Contested Case Hearings; DEQ Interpretation of Rules and Statutory Terms | 1/6/2014 | 10/23/2015, 80 FR 64346
011-0550 | Discovery | 1/6/2014 | 10/23/2015, 80 FR 64346
011-0555 | Subpoenas | 1/6/2014 | 10/23/2015, 80 FR 64346
011-0565 | Immediate Review | 1/6/2014 | 10/23/2015, 80 FR 64346
011-0570 | Permissible Scope of Hearing | 1/6/2014 | 10/23/2015, 80 FR 64346
011-0573 | Proposed Orders in Contested Cases | 1/6/2014 | 10/23/2015, 80 FR 64346
011-0575 | Review of Proposed Orders in Contested Cases | 1/6/2014 | 10/23/2015, 80 FR 64346
011-0580 | Petitions for Reconsideration or Rehearing | 1/6/2014 | 10/23/2015, 80 FR 64346
011-0585 | Petitions for a Stay of the Effect of a Final Order | 1/6/2014 | 10/23/2015, 80 FR 64346
Division 12—Enforcement Procedure and Civil Penalties ¹
012-0026 | Policy | 1/6/2014 | 10/23/2015, 80 FR 64346
012-0027 | Rule Effective Date | 3/29/2006 | 4/25/2013, 78 FR 24347
012-0028 | Scope of Applicability | 1/6/2014 | 10/23/2015, 80 FR 64346
012-0030 | Definitions | 11/16/2018 | 10/31/2019, 84 FR 58324
012-0038 | Warning Letters, Pre-Enforcement Notices and Notices of Permit Violation | 1/6/2014 | 10/23/2015, 80 FR 64346
012-0041 | Formal Enforcement Actions | 1/6/2014 | 10/23/2015, 80 FR 64346
012-0042 | Determination of Base Penalty | 5/13/2005 | 4/25/2013, 78 FR 24347
012-0045 | Civil Penalty Determination Procedure | 1/6/2014 | 10/23/2015, 80 FR 64346
012-0053 | Classification of Violations that Apply to all Programs | 11/16/2018 | 10/31/2019, 84 FR 58324
012-0054 | Air Quality Classification of Violations | 11/16/2018 | 10/31/2019, 84 FR 58324
012-0073 | Environmental Cleanup Classification of Violation | 3/29/2006 | 4/25/2013, 78 FR 24347
012-0082 | Contingency Planning Classification of Violations | 3/29/2006 | 4/25/2013, 78 FR 24347
012-0130 | Determination of Violation Magnitude | 1/6/2014 | 10/23/2015, 80 FR 64346
012-0135 | Selected Magnitude Categories | 11/16/2018 | 10/31/2019, 84 FR 58324
012-0140 | Determination of Base Penalty | 11/16/2018 | 10/31/2019, 84 FR 58324
012-0145 | Determination of Aggravating or Mitigating Factors | 1/6/2014 | 10/23/2015, 80 FR 64346
012-0150 | Determination of Economic Benefit | 1/6/2014 | 10/23/2015, 80 FR 64346
012-0155 | Additional or Alternate Civil Penalties | 1/6/2014 | 10/23/2015, 80 FR 64346
012-0160 | DEQ Discretion Regarding Penalty Assessment | 1/6/2014 | 10/23/2015, 80 FR 64346
012-0162 | Inability to Pay the Penalty | 1/6/2014 | 10/23/2015, 80 FR 64346
012-0165 | Stipulated Penalties | 1/6/2014 | 10/23/2015, 80 FR 64346
012-0170 | Compromise or Settlement of Civil Penalty by DEQ | 1/6/2014 | 10/23/2015, 80 FR 64346
Division 200—General Air Pollution Procedures and Definitions
Conflicts of Interest
200-0100 | Purpose | 4/16/2015 | 10/11/2017, 82 FR 47122
200-0110 | Public Interest Representation | 4/16/2015 | 10/11/2017, 82 FR 47122
200-0120 | Disclosure of Potential Conflicts of Interest | 4/16/2015 | 10/11/2017, 82 FR 47122
Division 209—Public Participation
209-0070 | Hearing Procedures | 4/16/2015 | 10/11/2017, 82 FR 47122
Division 262—Heat Smart Program for Residential Wood Stoves and Other Solid Fuel Heating Devices
262-0050 | Residential Woodheating—Civil Penalties | 10/14/1999 | 1/22/2003, 68 FR 2891
¹ The EPA approves the provisions in Table 2 of this paragraph (e) only to the extent the provisions relate to enforcement of the requirements contained in the Oregon SIP.

Table 3—Lane Regional Air Protection Agency Regulations Approved But Not Incorporated by Reference
LRAPA citation | Title/subject | State effective date | EPA approval date | Explanations
Title 13—General Duties and Powers of Board and Director
13-005 | Authority of the Agency | 3/31/2014 | 10/5/2018, 83 FR 50274
13-010 | Duties and Powers of the Board of Directors | 3/31/2014 | 10/5/2018, 83 FR 50274
13-020 | Duties and Function of the Director | 3/31/2014 | 10/5/2018, 83 FR 50274
13-025 | Conflict of Interest | 3/31/2014 | 10/5/2018, 83 FR 50274
13-030 | Advisory Committee | 3/31/2014 | 10/5/2018, 83 FR 50274
13-035 | Public Records and Confidential Information | 3/31/2014 | 10/5/2018, 83 FR 50274
Title 14—Rules of Practice and Procedure
14-110 | Definitions | 3/23/2018 | 10/5/2018, 83 FR 50274
Rulemaking
14-115 | Rulemaking Notice | 3/23/2018 | 10/5/2018, 83 FR 50274
14-120 | Rulemaking Hearings and Process | 3/23/2018 | 10/5/2018, 83 FR 50274
14-125 | Temporary Rules | 3/23/2018 | 10/5/2018, 83 FR 50274
14-130 | Petition to Promulgate, Amend or Repeal Rule—Content of Petition, Filing of Petition | 3/23/2018 | 10/5/2018, 83 FR 50274
14-135 | Declaratory Rulings | 3/23/2018 | 10/5/2018, 83 FR 50274
Contested Cases
14-140 | Contested Case Proceedings Generally | 3/23/2018 | 10/5/2018, 83 FR 50274
14-145 | Agency Representation by Environmental Law Specialist | 3/23/2018 | 10/5/2018, 83 FR 50274
14-147 | Authorized Representative of Respondent other than a Natural Person in a Contested Case Hearing | 3/23/2018 | 10/5/2018, 83 FR 50274
14-150 | Liability for the Acts of a Person's Employees | 3/23/2018 | 10/5/2018, 83 FR 50274
14-155 | Consolidation or Bifurcation of Contested Case Hearings | 3/23/2018 | 10/5/2018, 83 FR 50274
14-160 | Final Orders | 3/23/2018 | 10/5/2018, 83 FR 50274
14-165 | Default Orders | 3/23/2018 | 10/5/2018, 83 FR 50274
14-170 | Appeal to the Board | 3/23/2018 | 10/5/2018, 83 FR 50274
14-175 | Power of the Director | 3/23/2018 | 10/5/2018, 83 FR 50274
14-185 | Request for Stay Pending Judicial Review | 3/23/2018 | 10/5/2018, 83 FR 50274
14-190 | Request for Stay—Motion to Intervene | 3/23/2018 | 10/5/2018, 83 FR 50274
14-200 | Request for Stay—Agency Determination | 3/23/2018 | 10/5/2018, 83 FR 50274
14-205 | Request for Stay—Time Frames | 3/23/2018 | 10/5/2018, 83 FR 50274
Title 15—Enforcement Procedures and Civil Penalties ¹
15-001 | Policy | 9/14/2018 | 2/20/2019, 84 FR 5000
15-003 | Scope of Applicability | 6/13/1995 | 8/3/2001, 66 FR 40616
15-005 | Definitions | 5/17/2019 | 10/31/2019, 84 FR 58327
15-010 | Consolidation of Proceedings | 6/13/1995 | 8/3/2001, 66 FR 40616
15-015 | Notice of Violation | 9/14/2018 | 2/20/2019, 84 FR 5000
15-018 | Notice of Permit Violations (NPV) and Exceptions | 5/17/2019 | 10/31/2019, 84 FR 58327
15-020 | Enforcement Actions | 5/17/2019 | 10/31/2019, 84 FR 58327
15-025 | Civil Penalty Schedule Matrices | 5/17/2019 | 10/31/2019, 84 FR 58327
15-030 | Civil Penalty Determination Procedure (Mitigating and Aggravating Factors) | 5/17/2019 | 10/31/2019, 84 FR 58327
15-035 | Written Notice of Civil Penalty Assessment—When Penalty Payable | 9/14/2018 | 2/20/2019, 84 FR 5000
15-040 | Compromise or Settlement of Civil Penalty by Director | 9/14/2018 | 2/20/2019, 84 FR 5000
15-045 | Stipulated Penalties | 5/17/2019 | 10/31/2019, 84 FR 58327
15-050 | Additional Civil Penalties | 6/13/1995 | 8/3/2001, 66 FR 40616
15-055 | Air Quality Classification of Violation | 5/17/2019 | 10/31/2019, 84 FR 58327
15-057 | Determination of Violation Magnitude | 9/14/2018 | 2/20/2019, 84 FR 5000
15-060 | Selected Magnitude Categories | 5/17/2019 | 10/31/2019, 84 FR 58327
15-065 | Appeals | 9/14/2018 | 2/20/2019, 84 FR 5000
Title 31—Public Participation
31-0070 | Hearing Procedures | 3/23/2018 | 10/5/2018, 83 FR 50274
¹ The EPA approves the provisions in Table 3 of this paragraph (e) only to the extent the provisions relate to enforcement of the requirements contained in the Oregon SIP.

Table 4—City And County Ordinances Approved But Not Incorporated by Reference
Agency and ordinance | Title or subject | Date | EPA approval date | Explanations
Codified Ordinances of Jackson County 1810.09 | Abatement; Legal Proceedings | 12/20/1989 (county passed) | 6/19/2006, 71 FR 35163
Codified Ordinances of Jackson County 1810.99 | Penalty | 10/29/2003 (county passed) | 6/19/2006, 71 FR 35163
Code of the City of Medford, Oregon: 7.226 | Abatement; Legal Proceedings | 11/20/1989 (county effective) | 6/19/2006, 71 FR 35163
Code of the City of Medford, Oregon: 7.300 | Penalty | 4/6/2000 (county effective) | 6/19/2006, 71 FR 35163
City of Central Point Municipal Code: 8.04.100 | Abatement—Notice | 1966 (city effective) | 6/19/2006, 71 FR 35163
City of Central Point Municipal Code: 8.04.110 | Abatement—By owner | 1966 (city effective) | 6/19/2006, 71 FR 35163
City of Central Point Municipal Code: 8.04.120 | Abatement—By city | 1966 (city effective) | 6/19/2006, 71 FR 35163
City of Central Point Municipal Code: 8.04.130 | Abatement—Assessment of costs | 1966 (city effective) | 6/19/2006, 71 FR 35163
City of Central Point Municipal Code: 8.04.140 | Summary abatement | 1966 (city effective) | 6/19/2006, 71 FR 35163
City of Central Point Municipal Code: 8.04.150 | Penalty | 1995 (city effective) | 6/19/2006, 71 FR 35163
City of Ashland Municipal Code: 10.30.050 | Definitions | 1993 (city effective) | 6/19/2006, 71 FR 35163
City of Ashland Municipal Code: 9.24.060 | Penalty | 1998 (city effective) | 6/19/2006, 71 FR 35163

Table 5—State of Oregon Air Quality Control Program—Nonregulatory Provisions and Quasi-Regulatory Measures
Name of SIP provision | Applicable geographic or nonattainment area | State submittal date | EPA approval date | Explanations
Volume 2—The Federal Clean Air Act Implementation Plan
Section 1—Introduction
Introduction | Statewide | 5/31/1986; 7/11/1986 | 7/30/1991, 56 FR 36006
Section 2—General Administration
General Administration | Statewide | 5/31/1986; 7/11/1986 | 7/30/1991, 56 FR 36006
Agency Organization | Statewide | 5/31/1986; 7/11/1986 | 7/30/1991, 56 FR 36006
Legal Authority | Statewide | 7/29/1992 | 7/19/1995, 60 FR 37013
Resources | Statewide | 5/31/1986; 7/11/1986 | 7/30/1991, 56 FR 36006
Intergovernmental cooperation | Statewide | 5/31/1986; 7/11/1986 | 7/30/1991, 56 FR 36006
Miscellaneous Provisions | Statewide | 5/31/1986; 7/11/1986 | 7/30/1991, 56 FR 36006
Small Business Assistance Program | Statewide | 11/16/1992 | 9/05/1995, 60 FR 46025
Section 3—Statewide Regulatory Provisions
Statewide Regulatory Provisions | Statewide | 5/31/1986; 7/11/1986 | 7/30/1991, 56 FR 36006 | Refer to section (c) and (d) for approved regulations incorporated by reference.
Oregon Administrative Rules and Source-Specific RACT determinations | Statewide | 5/31/1986; 7/11/1986 | 7/30/1991, 56 FR 36006 | Refer to section (c) for approved regulations incorporated by reference and section (d) for Source-Specific RACT determinations.
Lane Regional Air Protection Agency Regulations | Lane County | 5/31/1986; 7/11/1986 | 7/30/1991, 56 FR 36006 | Refer to section (c) for approved regulations incorporated by reference.
Smoke Management Plan Administrative Rule | Statewide | 5/31/1986; 7/11/1986 | 7/30/1991, 56 FR 36006 | Refer to section (c) for approved regulations incorporated by reference (OAR chapter 629 43-043).
Section 4—Control Strategies for Nonattainment Areas
Introduction | Statewide | 5/31/1986; 7/11/1986 | 7/30/1991, 56 FR 36006
Attainment and Maintenance Planning—Carbon Monoxide (CO)
Carbon Monoxide Attainment Plan | Salem | 6/20/1979; 6/29/1979 | 6/24/1980, 45 FR 42265
Carbon Monoxide Attainment Plan | Eugene-Springfield | 6/20/1979; 6/29/1979 | 6/24/1980, 45 FR 42265
Carbon Monoxide Attainment Plan | Portland-Vancouver | 7/20/1982 | 10/07/1982, 47 FR 44261
Carbon Monoxide Attainment Plan | Medford-Ashland | 10/09/1985 | 2/13/1987, 52 FR 4620
Carbon Monoxide Attainment Plan | Grants Pass | 11/24/1986 | 1/15/1988, 53 FR 1020
Carbon Monoxide Maintenance Plan | Eugene-Springfield | 12/28/1989 | 12/06/1993, 58 FR 64161
Carbon Monoxide Attainment Plan | Grants Pass, Medford, Portland and Klamath Falls | 11/15/1993 | 6/28/1994, 59 FR 33202 | CO contingency plan revision to satisfy 172(c)(9).
Carbon Monoxide MaintenancePlan | Portland | 8/30/1996 | 9/02/1997, 62 FR 46208
Carbon Monoxide Maintenance Plan | Grants Pass | 11/10/1999 | 8/31/2000, 65 FR 52932
Carbon Monoxide Maintenance Plan | Klamath Falls | 11/20/2000 | 9/20/2001, 66 FR 48349
Carbon Monoxide Maintenance Plan | Medford | 5/31/2001 | 7/24/2002, 67 FR 48388
Carbon Monoxide 2nd 10-year Maintenance Plan | Portland | 12/27/2004 | 1/24/2006, 71 FR 3768
Carbon Monoxide Limited Maintenance Plan | Salem-Keizer | 8/09/2007 | 12/30/2008, 73 FR 79655
Carbon Monoxide 2nd 10-year Maintenance Plan Update | Portland | 1/14/2014 | 5/22/2014, 79 FR 29359 | TCM substitution.
Carbon Monoxide 2nd 10-year Limited Maintenance Plan | Grants Pass | 4/22/2015 | 7/28/2015, 80 FR 44864
Carbon Monoxide 2nd 10-year Limited Maintenance Plan | Medford | 12/11/2015 | 7/20/2016, 81 FR 47029
Attainment and Maintenance Planning—Ozone
Ozone Attainment Plan | Salem | 10/16/1980 | 4/12/1982, 47 FR 15587
Ozone Attainment Plan | Portland-Vancouver | 7/20/1982 | 10/07/1982, 47 FR 44261
Ozone Maintenance Plan | Medford-Ashland | 2/28/1985 | 6/04/1986, 51 FR 20285
Ozone Maintenance Plan | Portland-Vancouver | 8/30/1996 | 5/19/1997, 62 FR 27204
Ozone Maintenance Plan | Portland-Vancouver & Salem-Keizer | 8/09/2005; 5/22/2007 | 12/19/2011, 76 FR 78571 | Portland-Vancouver AQMA (Oregon portion) & Salem Keizer Area 8-hour Ozone (110(a)(1)) Maintenance Plan.
Attainment and Maintenance Planning—Total Suspended Particulate (TSP)
TSP Attainment Plan | Portland-Vancouver | 3/24/1981 | 4/12/1982, 47 FR 15587
TSP Attainment Plan | Eugene-Springfield | 2/23/1981 | 4/12/1982, 47 FR 15587
TSP Attainment Plan | Medford-Ashland | 4/25/1983 | 8/15/1984, 49 FR 32574
Attainment and Maintenance Planning—Particulate Matter (PM10)
PM10 Attainment Plan | Grants Pass | 11/15/1991 | 12/17/1993, 58 FR 65934
PM10 Attainment Plan | Eugene-Springfield | 11/15/1991 | 8/24/1994, 59 FR 43483
PM10 Attainment Plan | LaGrande | 11/15/1991 | 3/15/1995, 60 FR 8563
PM10 Attainment Plan | Klamath Falls | 11/15/1991; 9/20/1995 | 4/14/1997, 62 FR 18047
PM10 Attainment Plan | Oakridge | 12/09/1996 | 3/15/1999, 64 FR 12751
PM10 Attainment Plan | Lakeview | 6/01/1995 | 9/21/1999, 64 FR 51051
PM10 Maintenance Plan | Klamath Falls | 11/04/2002 | 10/21/2003,68 FR 60036
PM10 Maintenance Plan | Grants Pass | 11/04/2002 | 10/27/2003, 68 FR 61111
PM10 Attainment Plan and Maintenance Plan | Medford-Ashland | 3/10/2005 | 6/19/2006, 71 FR 35163
PM10 Maintenance Plan | La Grande | 10/25/2005 | 6/19/2006, 71 FR 35161
PM10 Maintenance Plan | Lakeview | 10/25/2005 | 6/19/2006, 71 FR 35159
PM10 Limited Maintenance Plan | Eugene-Springfield | 1/13/2012 | 4/11/2013, 78 FR 21547
PM10 2nd 10-year Limited Maintenance Plan | Grants Pass | 4/22/2015 | 7/30/2015, 80 FR 45431
Oakridge PM10 Maintenance Plan | Oakridge | 1/13/2022 | 8/22/2022, 87 FR 51265
Attainment and Maintenance Planning—Particulate Matter (PM2.5)
PM2.5 Attainment Plan | Klamath Falls | 12/12/2012 | 6/06/2016, 81 FR 36176
2012 PM2.5 Attainment Plan | Oakridge-Westfir | 12/12/2012 | 10/21/2016, 81 FR 72714 | Attainment date extension see final rule published 7/18/2016.
Updated PM2.5 Attainment Plan | Oakridge-Westfir | 1/20/2017 | 2/08/2018, 83 FR 5537
Oakridge PM2.5 Maintenance Plan | Oakridge-Westfir | 1/13/2022 | 8/22/2022, 87 FR 51262
Section 5—Control Strategies for Attainment and Nonattainment Areas
Control Strategies for Attainment and Nonattainment Areas | Statewide | 5/31/1986; 7/11/1986 | 7/30/1991, 56 FR 36006
Statewide Control Strategies for Lead | Statewide | 1/24/1983 | 5/18/1983, 48 FR 22298
Motor Vehicle Inspection and Maintenance | Statewide | 11/5/1999; 9/15/2000; 1/27/2000; 1/10/2003; 4/22/2004 | 11/27/2004, 69 FR 67819
Test Procedures and Standards | Statewide | 4/19/2004 | 11/22/2004, 69 FR 67819
Visibility Protection Plan | Statewide | 1/22/2003 | 3/15/2005, 70 FR 12587
Prevention of Significant Deterioration | Statewide | 7/11/1986 | 7/30/1991, 56 FR 36006
Oregon Regional Haze Plan-Section 308 | Statewide | 12/9/2010 | 7/05/2011, 76 FR 38997 | Meets CAA requirements section 169A and 40 CFR 51.308(e) regarding BART and the requirements of 40 CFR 51.308(d)(2) and (d)(4)(v) regarding the calculation of baseline and natural conditions of OR Wilderness areas and the statewide inventory of emissionsof pollutants that are reasonably anticipated to cause or contriubte to visibulity impairment in any mandatory Class I Federal Area.
Oregon Regional Haze SIP revision | Statewide | 12/9/2010; 2/01/2011 | 8/22/2012, 77 FR 50611 | Meeting CAA requirements section 169A, and 40 CFR 51.308(d)(1) and (3).
Regional Haze Progress Report | Statewide | 7/18/2017 | 5/17/2018, 83 FR 22853
Oregon Regional Haze State Implementation Plan Revision for the Second Planning Period (2018-2028) | Statewide | 4/29/2022 and 11/22/2023 | 10/8/2024, 89 FR 81361
Section 6—Ambient Air Quality Monitoring Program
Ambient Air Quality Monitoring Program | Statewide | 5/31/1986; 7/11/1986 | 7/30/1991, 56 FR 36006
Air Monitoring Network | Statewide | 5/31/1986; 7/11/1986 | 7/30/1991, 56 FR 36006
Data Handling and Analysis Procedures | Statewide | 5/31/1986; 7/11/1986 | 7/30/1991, 56 FR 36006
Episode Monitoring | Statewide | 5/31/1986; 7/11/1986 | 7/30/1991, 56 FR 36006
Section 7—Emergency Plan
Emergency Action Plan | Statewide | 5/31/1986; 7/11/1986 | 7/30/1991, 56 FR 36006
Section 8—Public Involvement
Public Involvement | Statewide | 5/31/1986; 7/11/1986 | 7/30/1991, 56 FR 36006
Section 9—Plan Revisions and Reporting
Plan Revisions and Reporting | Statewide | 5/31/1986; 7/11/1986 | 7/30/1991, 56 FR 36006
110(a)(2) Infrastructure and Interstate Transport
Interstate Transport for the 1997 8-hour ozone NAAQS | Statewide | 6/23/2010; 12/23/2010 | 6/09/2011, 76 FR 33650 | This action addresses CAA secition 110(a)(2)(D)(i)(I).
Interstate Transport for the 1997 PM2.5 NAAQS | Statewide | 6/23/2010; 12/23/2010 | 6/09/2011, 76 FR 33650 | This action addresses CAA secition 110(a)(2)(D)(i)(I).
Interstate Transport for the 1997 8-hour ozone NAAQS | Statewide | 12/20/2010 | 7/05/2011, 76 FR 38997 | This action addresses CAA section 110(a)(2)(D)(i)(II) as it applies to visiblity.
Interstate Transport for the 1997 PM2.5 NAAQS | Statewide | 12/20/2010 | 7/05/2011, 76 FR 38997 | This action addresses CAA section 110(a)(2)(D)(i)(II) as it applies to visibility.
Interstate Transport for the 1997 8-hour ozone NAAQS | Statewide | 6/23/2010; 12/22/2010 | 12/27/2011, 76 FR 80747 | This action addresses CAA section 110(a)(2)(D)(i) and section 110(a)(2)(D)(i)(II).
Interstate Transport for the 1997 24-hour PM2.5 NAAQS | Statewide | 6/23/2010; 12/22/2010 | 12/27/2011, 76 FR 80747 | This action addresses CAA section 110(a)(2)(D)(i) and section 110(a)(2)(D)(i)(II).
Interstate Transport for the 2006 24-hour PM2.5 NAAQS | Statewide | 6/23/2010; 12/22/2010 | 12/27/2011, 76 FR 80747 | This action addresses CAA section 110(a)(2)(D)(i)(II).
Infrastructure for the 1997 8-hour ozone NAAQS | Statewide | 9/25/2008 | 5/21/2012, 77 FR 29904 | This action addresses the following CAA section 110(a)(2) elements: (A), (B), (C), (D)(ii), (E), (F), (G), (H), (J), (K), (L), and (M).
Infrastructure for the 2008 lead NAAQS | Statewide | 12/27/2013 | 6/24/2014, 79 FR 35693 | This action addresses the following CAA section 110(a)(2) elements: (A), (B), (C), (D)(i)(II), (D)(ii), (E), (F), (G), (H), (J), (K), (L), and (M).
Infrastructure for the 1997 24-hour PM2.5 NAAQS | Statewide | 9/25/2008 | 8/01/2014, 78 FR 46514 | This action addresses the following CAA section 110(a)(2) elements: (A), (B), (C), (D)(ii), (E), (F), (G), (H), (J), (K), (L), and (M).
Infrastructure for the 2006 24-hour PM2.5 NAAQS | Statewide | 8/17/2011 | 8/01/2014, 78 FR 46514 | This action addresses the following CAA section 110(a)(2) elements: (A), (B), (C), (D)(ii), (E), (F), (G), (H), (J), (K), (L), and (M).
Infrastructure for the 2008 ozone NAAQS | Statewide | 12/19/2011 | 8/01/2014, 78 FR 46514 | This action addresses the following CAA section 110(a)(2) elements: (A), (B), (C), (D)(ii), (E), (F), (G), (H), (J), (K), (L), and (M).
Interstate Transport for the 2006 24-hour PM2.5 NAAQS | Statewide | 12/23/2010 | 8/01/2014, 78 FR 46514 | This action addresses CAA section 110(a)(2)(D)(i)(II) as it applies to visibility.
Interstate Transport for the 2008 ozone NAAQS | Statewide | 12/23/2010 | 8/01/2014, 78 FR 46514 | This action addresses CAA section 110(a)(2)(D)(i)(II) as it applies to PSD and visibility.
Interstate Transport for the 2006 24-hour PM2.5 NAAQS | Statewide | 6/23/2010 | 1/16/2015, 80 FR 2313 | This action addresses CAA section 110(a)(2)(D)(i)(I).
Interstate Transport for the 2008 ozone NAAQS | Statewide | 6/28/2010 | 12/21/2015, 80 FR79266 | This action meets the requirements of CAA section 110(a)(2)(D)(i)(I).
Interstate Transport for the 2008 lead NAAQS | Statewide | 10/20/2015 | 5/16/2016, 81 FR 30181 | This action meets the requirements of CAA section 110(a)(2)(D)(i)(I).
Interstate Transport for the 2010 nitrogen dioxide NAAQS | Statewide | 10/20/2015 | 5/16/2016, 81 FR 30181 | This action meets the requirements of CAA section 110(a)(2)(D)(i)(I).
Infrastructure for the 2010 nitrogen dioxide NAAQS | Statewide | 12/27/2013 | 5/24/2018, 83 FR 24034 | This action addresses the following CAA section 110(a)(2) elements: (A), (B), (C), (D)(i)(II), (D)(ii), (E), (F), (G), (H), (J), (K), (L), and (M).
Infrastructure for the 2010 sulfur dioxide NAAQS | Statewide | 12/27/2013 | 5/24/2018, 83 FR 24034 | This action addresses the following CAA section 110(a)(2) elements: (A), (B), (C), (D)(i)(II), (D)(ii), (E), (F), (G), (H), (J), (K), (L), and (M).
Infrastructure for the 2012 PM2.5 NAAQS | Statewide | 10/20/2015 | 5/24/2018, 83 FR 24034 | This action addresses the following CAA section 110(a)(2) elements: (A), (B), (C), (D)(i)(II), (D)(ii), (E), (F), (G), (H), (J), (K), (L), and (M).
Interstate Transport for the 2012 PM2.5 NAAQS | Statewide | 10/20/2015 | 9/18/2018, 83 FR 47073 | This action meets the requirements of CAA section 110(a)(2)(D)(i)(I).
2015 Ozone NAAQS Interstate Transport | Statewide | 9/25/2018 | 5/17/2019, 84 FR 22376 | This action addresses CAA 110(a)(2)(D)(i)(I).
Infrastructure for the 2015 Ozone NAAQS | Statewide | 10/21/2018 | 6/6/2019, 84 FR 26347 | This action addresses the following CAA section 110(a)(2) elements: (A), (B), (C), (D)(i)(II), (D)(ii), (E), (F), (G), (H), (J), (K), (L), and (M).
Interstate Transport for the 2010 sulfur dioxide NAAQS | Statewide | 10/20/2015 | 7/17/2020, 85 FR 43463 | This action addresses CAA 110(a)(2)(D)(i)(I).
EPA Approved Oregon State Directives
Oregon Department of Forestry Directive 1-4-1-601 | Operational Guidance for the Oregon Smoke Management Program | 9/27/2019 | 5/25/2021, 86 FR 27976
ODEQ-LRAPA Stringency Directive, Attachment B | DEQ analysis and recommendations regarding which of the proposed rules that the EQC should require LRAPA to implement directly | 4/22/2015 | 10/11/2017, 82 FR 47122
EPA Approved Manuals
ODEQ Source Sampling Manual | Statewide | 12/11/2018 | 10/31/2019, 84 FR 58324 | Volumes I (November 2018 edition) and Volume II (April 2015 edition) only for purposes of the emission limits and requirements approved into the Oregon SIP.
ODEQ Continuous Emissions Monitoring Manual | Statewide | 4/22/2015 | 10/11/2017, 82 FR 47122 | For purposes of the limits approved into the SIP.

[FR Doc. 2025-14971 Filed 8-6-25; 8:45 am]

BILLING CODE 6560-50-P